DEPARTMENT OF DEFENSE

Office of the Secretary

32 CFR Part 161

[Docket ID: DoD-2015-OS-0069]

RIN 0790-AJ37

Identification (ID) Cards for Members of the Uniformed Services, Their Dependents, and Other Eligible Individuals

AGENCY: Office of the Under Secretary of Defense for Personnel and Readiness, DoD.

ACTION: Interim final rule; amendment.

SUMMARY: This rule amends an interim rule published on January 6, 2014 which provided procedures for DoD ID cards. These cards are issued to uniformed service members, their dependents, and other eligible individuals and are used as proof of identity and DoD affiliation as well as to facilitate the extension of DoD benefits. The previous rule extended benefits to all eligible dependents of Uniformed Service members and eligible DoD civilians. DoD is proposing further amendments to its ID card policy to include ID card eligibility documentation requirements incorporating guidance addressing the modification of gender in a record for transgender retirees and family members who have completed their gender transition. The rule also aligns the CFR to match revised contents of various DoD policy issuances and NIST Federal Information Processing Standards.

DATES: This rule is effective on October 27, 2016. Comments must be received by December 27, 2016.

ADDRESSES: You may submit comments, identified by docket number and/or RIN number and title, by any of the following methods:

• Federal Rulemaking Portal: http://www.regulations.gov. Follow the instructions for submitting comments.

• Mail: Department of Defense, Office of the Deputy Chief Management Officer, Directorate of Oversight and Compliance, 4800 Mark Center Drive, Mailbox #24, Alexandria, VA 22350-1700.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Robert Eves at 571-372-1956; email: robert.c.eves.civ@mail.mil.

SUPPLEMENTARY INFORMATION:

Changes Since the Last Interim Rule

The amendments DoD is proposing would:

a. Ensure the issuance of ID cards and extension of benefits to all eligible dependents of Uniformed Service members and eligible DoD civilians is implemented across the DoD.

b. Align policy for the implementation of Homeland Security Presidential Directive (HSPD) 12 within DoD with the most current version of FIPS 201-2. “Personal Identity Verification (PIV) of Federal Employees and Contractors” (available at http://dx.doi.org/10.6028/NIST.FIPS.201-2).

c. Align the benefits for commissary; exchange; and, morale, welfare, and recreation (MWR) in subpart C with the current versions of the following:

• DoD Instruction 1015.10, “Military Morale, Welfare, and Recreation (MWR) Programs” (available at http://www.dtic.mil/whs/directives/corres/pdf/101510p.pdf,

• DoD Instruction 1330.17, “Armed Services Commissary Operations”; (available at http://www.dtic.mil/whs/directives/corres/pdf/133017p.pdf), and

• DoD Instruction 1330.21, “Armed Services Exchange Regulations.” (available at http://www.dtic.mil/whs/directives/corres/pdf/133021p.pdf).

d. Provide procedures and defines acceptable documentation for enrollment and eligibility verification, as necessary, for DoD ID card issuance as described in DoD Manual 1000.13 Volume 3 which identifies:

• The eligibility documentation requirements for all DoD ID card eligible populations, and

• Documentation requirements for the correction of Defense Enrollment Eligibility Reporting System (DEERS) records, to include changing one's gender in DEERS.

All revisions to this rule will be reported in future updates to DoD's retrospective plan under Executive Order 13563 as completed in August 2011. DoD's full plan can be accessed at: http://www.regulations.gov/#!docketDetail;D=DOD-2011-OS-0036.

Authority for This Regulatory Action

Authorities for this rule include Title 5, Section 5703 and Title 10 U.S.C., Sections 1044a, 1061-1064, 1072-1074, 1074a-1074c, 1076, 1076a, 1077, 1095 (k) (2), 1408(H), and chapter 1223 authorize members of the Uniformed Services (active duty, Reserve, or retired members) and their spouses and dependents certain benefits and privileges. Title 18, Sections 499, 506, 509, 701, and 1001 address penalties, fines and imprisonment for unauthorized reproduction of ID cards. The DoD ID cards authorize eligible individuals (to include specific categories of civilians and contractors) certain benefits and privileges to include health care; use of commissary; exchange; and morale, welfare, and recreation facilities.

Costs and Benefits of This Regulatory Action

The public will not incur any costs from the amendments DoD is proposing. The amendments benefit the Department and the public by strengthening the identity proofing requirements for ID card issuance. The amendments also benefit members of the public by ensuring that those eligible for DoD benefits will be issued an ID card conveying those benefits in a timely manner, and retirees, dependents and contractors have the ability to have their gender marker in DEERS reflect their gender identity.

Justification To Issue an Interim Final Rule

A void currently exists in DoD's policy with respect to the documentation required to establish eligibility for benefits extended by Title 10 United States Code in terms of the information required to change a record. The addition of Subpart D in this regulation fills that void by providing specific policy guidance addressing the modification of gender in a record for transgender uniformed service retirees and family members following completion of a gender transition. Immediate implementation of this rule eliminates confusion for those seeking enrollment and benefit eligibility while clarifying documentation requirements necessary to update a record to accurately reflect an individual's personal information.

In addition, the revised Commissary, Exchange, and Morale, Welfare and Recreation policy issuances provide additional clarity concerning who is eligible to receive their respective benefits and the circumstances under which they are eligible for those benefits. The revision to the benefits tables in Subpart C capture the changes to the updated benefits policy issuances and correct previously identified discrepancies, ensuring that those who are eligible for these benefits are provided timely access to those benefits.

Finally, the revision to the most current version of the Department of Commerce, National Institute of Standards and Technology FIPS PUB 201-2 released August 2013 are incorporated into these amendments. FIPS PUB 201-2 mandates changes to the acceptable forms of identification for the Personal Identity Verification (PIV) identity proofing and registration requirements, providing lists of acceptable primary and secondary identity source documents. These revisions ensures DoD policy is compliant with the current Federal standard for identity proofing and registration requirements, the required identity source documents are provided by the ID card applicant during the actual ID card issuance process, and provide additional assurance that the individual receiving an ID card has been positively identified. DoD issues approximately five million ID cards each year to military members, civilian employees, contractors, foreign nationals, and where applicable, family members. The Department believes portions of this rule relate to “agency management or personnel” and those portions are exempt under sec. 553(a)(2) from all requirements of sec. 533. However, the Department also believes there are significant portions of the rule that relate to members of the public that are not exempt from rule making. The Department prefers to submit this rule content in its entirety, including both required and exempt portions, to maintain the intent of its policy as written and avoid the potential confusion that separation of any exempt portions from the non-exempt portions could create.

Regulatory Procedures

Executive Order 12866, “Regulatory Planning and Review” and Executive Order 13563, “Improving Regulation and Regulatory Review”

It has been determined that 32 CFR part 161 is a significant regulatory action as it does raise novel legal or policy issues arising out of legal mandates, the President's priorities, or the principles set forth in these Executive Orders.

However, 32 CFR part 161 does not:

(1) Have an annual effect on the economy of $100 million or more or adversely affect in a material way the economy; a section of the economy; productivity; competition; jobs; the environment; public health or safety; or State, local, or tribal governments or communities;

(2) Create a serious inconsistency or otherwise interfere with an action taken or planned by another Agency;

(3) Materially alter the budgetary impact of entitlements, grants, user fees, or loan programs, or the rights and obligations of recipients thereof.

2 U.S.C. Ch. 25, “Unfunded Mandates Reform Act”

Section 202 of the Unfunded Mandates Reform Act of 1995 (UMRA) (2 U.S.C. 1532) requires agencies assess anticipated costs and benefits before issuing any rule whose mandates require spending in any 1 year of $100 million in 1995 dollars, updated annually for inflation. In 2014, that threshold is approximately $141 million. This rule will not mandate any requirements for State, local, or tribal governments, nor will it affect private sector costs.

Public Law 96-354, “Regulatory Flexibility Act” (5 U.S.C. Ch. 6)

The Department of Defense certifies that this interim final rule is not subject to the Regulatory Flexibility Act because it would not, if promulgated, have a significant economic impact on a substantial number of small entities. Therefore, the Regulatory Flexibility Act, as amended, does not require us to prepare a regulatory flexibility analysis.

Public Law 96-511, “Paperwork Reduction Act” (44 U.S.C. Chapter 35)

This rule does impose reporting or recordkeeping requirements under the Paperwork Reduction Act of 1995. These reporting requirements have been approved by the Office of Management and Budget and assigned OMB Control Number 0704-0415, “Application for Department of Defense Common Access Card—DEERS Enrollment.”

Executive Order 13132, “Federalism”

Executive Order 13132 establishes certain requirements that an agency must meet when it promulgates a proposed rule (and subsequent final rule) that imposes substantial direct requirement costs on State and local governments, preempts State law, or otherwise has Federalism implications. This interim final rule will not have a substantial effect on State and local governments.

List of Subjects in 32 CFR Part 161

Administrative practice and procedure, Armed forces, Military personnel, National defense, Privacy, Security measures.

Accordingly, 32 CFR part 161 is amended as follows:

PART 161—IDENTIFICATION (ID) CARDS FOR MEMBERS OF THE UNIFORMED SERVICES, THEIR DEPENDENTS, AND OTHER ELIGIBLE INDIVIDUALS

1. The authority citation for 32 CFR part 161 is revised to read as follows:

Authority: 10 U.S.C. 1061-1064, 1072-1074, 1074a-1074c, 1076, 1076a, 1077, and 1095(k)(2), and 18 U.S.C. 499, 506, 509, 701, and 1001; 5 U.S.C. 5703, 10 U.S.C. 1408(h), 10 U.S.C. 1044a, 10 U.S.C. chapter 1223.

Subpart A—Identification (ID) Cards for Members of the Uniformed Services, Their Dependents, and Other Eligible Individuals

2. Amend § 161.1 by:

a. Removing “their dependents and other eligible individuals” and adding in its place “their dependents, DoD civilian employees, and other eligible individuals” in paragraph (a).

b. Adding paragraph (d).

The addition reads as follows:

§ 161.1 Purpose.

* * * * *

(d) Provides procedures and defines acceptable documentation for enrollment and eligibility verification, as necessary, for DoD ID card issuance and as described in DoD Instruction 1000.13 and subparts B and C of this part.

3. Amend § 161.3 by:

a. Adding in alphabetical order the definitions of “Abused dependent,” “Annulment decree,” “Certificate of live birth,” “Dissolution decree,” “Divorce decree,” “Federal employee,” “Federally controlled information systems,” “Financial dependency determination,” “Full-time student,” “Intergovernmental Personnel Act personnel,” “Invitational travel order,” “Letter of authorization,” “Letter from a school registrar,” “Marriage certificate,” “Medical sufficiency statement,” “Notarization,” “Placement agreement,” “Stepchild,” “Surviving dependent,” “United States,” “U.S. territories and possessions,” “VA rating determination letter,” and “Voluntary acknowledgement of paternity.”

b. Revising the definitions of “Certified document,” “Child,” “Cross-servicing,” “Foreign affiliate,” “Placement agency (recognized by the Secretary of Defense),” “Pre-adoptive child,” “Privileges,” “Sponsor,” “Spouse,” “Unmarried,” “Unremarried,” “Ward,” “Widow,” and “Widower.”

c. Removing the definitions “ID card sponsor” and “Intergovernmental Personnel Act (IPA) employees.”

d. Designating the definition of “Individual Ready Reserve” in alphabetical order in the list of definitions.

The additions and revisions read as follows:

§ 161.3 Definitions.

* * * * *

Abused dependent. Dependents of active duty uniformed service members:

(1) Entitled to retired pay based on 20 or more years of service who, on or after October 23, 1992, while a member, are eligible to receive retired pay terminated as a result of misconduct involving the abuse of the spouse or dependent child pursuant to 10 U.S.C. 1408(h); or

(2) Not entitled to retired pay, who have received a dishonorable or bad-conduct discharge, dismissal from a uniformed service as a result of a court martial conviction for an offense involving physical or emotional abuse of a spouse or child, or were administratively discharged as a result of such an offense, separated on or after November 30, 1993.

* * * * *

Annulment decree. An order or other appropriate document from a court of competent jurisdiction in the United States (or U.S. territory or possession) that grants an annulment of a marriage.

* * * * *

Certificate of live birth. A certificate authenticated by an attending physician or other responsible person from a U.S. hospital or a military treatment facility showing the name of at least one parent.

* * * * *

Certified document. A document that is certified as a true original and:

(1) Conveys the appropriate seal or markings of the issuer;

(2) Has a means to validate the authenticity of the document by a reference or source number;

(3) Is a notarized legal document or other document approved by a Judge Advocate, other members of the armed forces designated by law and regulations to have the powers set forth in 10 U.S.C 1044a, or other eligible persons in accordance with 10 U.S.C. 1044a; or

(4) Has the appropriate certificate of authentication by a U.S. Consular Officer in the foreign country of issuance which attests to the authenticity of the signature and seal.

* * * * *

Child. A legitimate child, illegitimate child, stepchild, or adopted child of the sponsor, who is younger than 21 years of age. If 21 or older, the child may remain eligible if the child is:

(1) 21 or 22 years old and enrolled in a full-time course of higher learning;

(2) 21 or older but incapable of self-support because of a mental or physical incapacity that existed before the 21st birthday; or

(3) 21 or 22 years old and was enrolled full-time in an accredited institution of higher learning but became incapable of self-support because of a mental or physical condition while a full-time student.

* * * * *

Cross-servicing. Agreement amongst all uniformed services to assist Service members, regardless of the Service member's responsible uniformed service, and their dependents, for all ID card or benefits-related matters, when appropriate and not restricted by subpart B of this part.

* * * * *

Dissolution decree. An order or other appropriate document from a court of competent jurisdiction in the United States (or U.S. territory or possession) that grants dissolution of a marriage.

Divorce decree. An order or other appropriate document from a court of competent jurisdiction in the United States (or U.S. territory or possession) that grants termination of a marriage.

* * * * *

Federal employee. Defined in 5 U.S.C. 2105.

Federally controlled information systems. (1) An information technology system (or information system), as defined by the Federal Information Security Management Act of 2002 (44 U.S.C. 3502(8)).

(2) Information systems used or operated by an agency or by a contractor of an agency or other organization on behalf of an agency (44 U.S.C. 3544(a)(1)(A)).

* * * * *

Financial dependency determination. Service-level process used to determine whether the financial dependency of a dependent on a sponsor meets the requirement for benefits eligibility.

Foreign affiliate. A foreign national, including foreign civilian, foreign contractor, or foreign uniformed services personnel, who is sponsored by their government in accordance with DoD Directive 5230.20, “Visits and Assignments of Foreign Nationals” (available at http://www.dtic.mil/whs/directives/corres/pdf/523020p.pdf) through an official visit, assignment, temporary duty, school, training, policy board, or other defined agreement to work or reside on a DoD facility, or require access to DoD networks on-site or remotely.

* * * * *

Full-time student. A child who has not attained the age of 23, who is enrolled in a full-time course of study at an institution of higher learning approved by the administering Secretary and is, or was at the time of the member's or former member's death, dependent on the member or former member for more than 50 percent of the child's support.

* * * * *

Intergovernmental Personnel Act personnel. Employees covered by Public Law 91-648, “Intergovernmental Personnel Act of 1970.” The Intergovernmental Personnel Act mobility program provides temporary assignment of personnel between the Federal Government and State and local governments, colleges and universities, tribal governments, federally funded research and development centers, and other eligible organizations.

* * * * *

Invitational travel order (ITO). The document authorizing travel by individuals either not employed by the government or employed in accordance with 5 U.S.C. 5703 intermittently in the government's service as consultants or experts and paid on a daily basis, when actually employed. ITOs include the names of accompanying dependents who may be eligible for DoD benefits in accordance with DoD policy and reciprocal international agreements.

Letter of authorization (LOA). A document generated by Synchronized Predeployment and Operational Tracker (SPOT) that states the intended length of assignment, planned use of government facilities and privileges, and name of the approving governmental official.

Letter from a school registrar. A letter certifying enrollment in a full-time in-residence, or online course of study, leading to an associate degree or higher and listing an anticipated graduation date. Students attending two institutions less than full-time may not combine courses from both institutions to meet full-time student status. Most colleges and universities contract with third parties, such as the National Student Clearinghouse, to verify student enrollment. These third parties must comply with 20 U.S.C. 1232g and 34 CFR part 99 and are considered official agents of the institution for that purpose. Such documentation is considered equivalent to and accepted in lieu of a letter from the registrar's office. For graduate students, a letter of acceptance of enrollment signed by an authorized officer of the college or university is required to serve as the school letter.

Marriage certificate. State-certified record of marriage.

Medical sufficiency statement. A statement from a physician from a military treatment facility or approved TRICARE provider used in conjunction with eligibility and dependency determinations. The statement includes a recent medical or psychiatric evaluation and diagnosis, a statement of illness (including the date, child's age, and onset of incapacity), the current treatment being rendered, the prognosis for recovery, and the ability to become self-supporting.

* * * * *

Notarization. The official fraud-deterrent process that assures that the signatures on a document are authentic and valid. The signature of any such person acting as notary, together with the title of that person's offices, is prima facie evidence that the signature is genuine, that the person holds the designated title, and that the person is authorized to perform a notarial act. A person acting as notary must be impartial.

* * * * *

Placement agency (recognized by the Secretary of Defense). An authorized placement agency in the United States or U.S. territories or possessions that must be licensed for adoption by the State, territory, or possession in which the adoption procedures will be completed. In all other locations, a request for recognition must be approved by the appropriate Assistant Secretary of the Military Department concerned or an appropriate official who has been delegated approval authority.

Placement agreement. An agreement between the State and the parent(s) placing the child in the legal custody of the parent(s). To establish the child as a pre-adoptive child, the placement agreement must include the intent to adopt.

Pre-adoptive child. With respect to determinations of dependency made on or after October 5, 1994, an unmarried person who is placed in the home of the member or former member by a placement agency (recognized by the Secretary of Defense) or by any other source authorized by State or local law to provide adoption placement, in anticipation of the legal adoption of the child by the member or former member, and:

(1) Has not attained the age of 21; or

(2) Has not attained the age of 23, is enrolled in a full-time course of study at an institution of higher learning approved by the administering Secretary and is, or was at the time of the member's or former member's death, in fact dependent on the member or former member for over one-half of the child's support; or

(3) Is incapable of self-support because of a mental or physical incapacity that occurs while a dependent of a member or former member and is, or was at the time of the member's or former member's death, in fact dependent on the member or former member for over one-half of the child's support.

Privileges. Benefits or advantages allowed based on position, authority, relationship, or status and which may be removed by proper authority. Privileges are not necessarily “rights” specifically granted by law.

* * * * *

Sponsor. The person affiliated to the DoD, uniformed service, or other Federal agency who is delegated the responsibility for verifying and authorizing an applicant's need for an ID card. This term also refers to the prime beneficiary who derives eligibility based on individual status rather than dependence upon or relationship to another person. This beneficiary receives benefits based on the beneficiary's direct affiliation to the DoD or other unformed service.

Spouse. A person legally married to a current, former, or retired uniformed service member, eligible civilian employee, or other eligible individual in accordance with subpart C of this part, regardless of gender or State of residence.

* * * * *

Stepchild. A natural or adopted child of a spouse of a sponsor and who qualifies as a child.

Surviving dependent. The dependent of a member who died while on active duty under orders that specified a period of more than 30 days, or a member who died while in a retired with-pay status.

* * * * *

United States. The 50 United States and the District of Columbia.

Unmarried. A widow or widower who remarried and whose remarriage ended by death or divorce, or a former spouse of a sponsor whose subsequent remarriage ended by death or divorce.

Unremarried. A widow or widower who has never remarried, or a former spouse whose only remarriage was to the same military sponsor. Periods of marriage in this case may be combined to document eligibility for former spouse benefits.

U.S. territories and possessions. Puerto Rico, American Samoa, Guam, the Commonwealth of the Northern Mariana Islands, and the U.S. Virgin Islands.

VA rating determination letter. A letter from the appropriate VA authorities that establishes that the uniformed service member has been rated as 100 percent disabled or incapable of pursuing substantially gainful employment by the VA.

* * * * *

Voluntary acknowledgment of paternity. A document recognized by relevant and applicable State law as establishing legal paternity. Such documents must be certified as a “true copy” by the appropriate state office.

Ward. An unmarried person who is placed in the legal custody of the member or former member as a result of an order of a court of competent jurisdiction in the United States (or a U.S. territory or possession) for a period of at least 12 consecutive months; is dependent on the member or former member for more than 50 percent of the person's support; resides with the member or former member unless separated by the necessity of uniformed service or to receive institutional care as a result of disability or incapacitation or under such other circumstances as the administering Secretary may by regulation prescribe; is not a dependent of a member or a former member under 10 U.S.C. 1072(2); and either:

(1) Has not attained the age of 21;

(2) Has not attained the age of 23 and is enrolled in a full-time course of study at an institution of higher learning approved by the administering Secretary; or

(3) Is incapable of self-support because of a mental or physical incapacity that occurred while the person was considered a dependent of the member or former member.

Widow. The female spouse of a deceased member of the uniformed Services.

Widower. The male spouse of a deceased member of the uniformed Services.

§ 161.4 [Amended]

4. Amend § 161.4 by:

a. Removing “their dependents, and other eligible individuals” and adding in its place “their dependents, DoD civilian employees, and other eligible individuals” in paragraph (a).

b. Removing “DoD Directive 1000.25” and adding in its place “DoD Instruction 1000.25” in paragraph (c).

c. In paragraph (e):

i. Removing “FIPS Publication 201-1” and adding in its place “FIPS Publication 201-2.”

ii. Removing “(available at http://csrc.nist.gov/publications/fips/fips201-1/FIPS-201-1-chng1.pdf)” and adding in its place “(available at http://dx.doi.org/10.6028/NIST.FIPS.201-2).”

§ 161.5 [Amended]

5. Amend § 161.5 by:

a. Removing “DoD Directive 1000.25” and adding in its place “DoD Instruction 1000.25” in paragraphs (a)(3) and (4).

b. Removing “FIPS Publication 201-1” and adding in its place “FIPS Publication 201-2” in paragraph (a)(7).

c. In paragraph (d):

i. Adding in “and in addition to the responsibilities in paragraph (h) of this section,” immediately following “control of the USD(P&R).”

ii. Removing “DoD Directive 1000.25” and adding in its place “DoD Instruction 1000.25.”

d. Adding paragraphs (d)(7) and (8).

e. Removing “The Heads of the DoD Components, the Director, USPHS, and the NOAA Administrator,” and adding in its place “The OSD and DoD Component heads other than the Secretaries of the Military Departments,” in paragraph (h).

f. Adding paragraphs (h)(12) and (13) and (i)(3) and (4).

g. Removing “Federal Information Processing Standards Publication 201-1” and adding in its place “FIPS Publication 201-2” in paragraph (h)(8).

h. Removing “Director, USPHS;” and adding in its place “Director, Division of Commissioned Corps Personnel and Readiness, USPHS;” in paragraph (i).

The additions read as follows:

§ 161.5 Responsibilities.

(d) * * *

(7) Determines and maintains a list of forms of documentation that are acceptable for the purpose of eligibility verification, in accordance with applicable law.

(8) Through the Director, Defense Manpower Data Center:

(i) Provides and maintains training on the examination and inspection of documentation for the purpose of eligibility verification for DEERS enrollment, record management, and ID card issuance.

(ii) Supports and maintains the development of automated data feeds to DEERS that serve as authoritative eligibility sources for applicable DoD ID card-eligible personnel.

(iii) Supports and maintains the development of the Real-time Automated Personnel Identification System (RAPIDS) as the application used to incorporate and collect eligibility documentation.

* * * * *

(h) * * *

(12) Comply with the provisions of this part and provide timely and accurate support to the provisions of this part.

(13) Ensure that the policies and procedures in subpart D of this part are implemented to protect the privacy of individuals in the collection, use, maintenance, and dissemination of personally identifiable information, in accordance with 32 CFR part 310.

(i) * * *

(3) Coordinate with the Director, DoDHRA, through the Joint Uniformed Services Personnel Advisory Committee, to determine if the list of acceptable eligibility documentation needs to be amended to add new documents or remove outdated documents.

(4) Ensure that the policies and procedures in this subpart are implemented to protect the privacy of individuals in the collection, use, maintenance, and dissemination of personally identifiable information, in accordance with 32 CFR part 310.

§ 161.6 [Amended]

6. Amend § 161.6 by:

a. Removing “FIPS Publication 201-1” and adding in its place “FIPS Publication 201-2” in paragraph (a).

b. In paragraph (a)(3):

i. Removing “A background investigation is required” and adding in its place “Background investigation is required” in the first sentence.

ii. Removing “FIPS Publication 201-1” and adding in its place “FIPS Publication 201-2” in both places it appears.

c. Removing “FIPS Publication 201-1” and adding in its place “FIPS Publication 201-2” in paragraph (c).

d. Removing “FIPS Publication 201-1” and adding in its place “FIPS Publication 201-2” in paragraph (c)(1)(iii).

e. Removing “FIPS Publication 201-1” and adding in its place “FIPS Publication 201-2” in paragraph (c)(1)(iv).

f. Removing “FIPS Publication 201-1” and adding in its place “FIPS Publication 201-2” in paragraph (c)(1)(v).

g. Removing “DoD Directive 1000.25” and adding in its place “DoD Instruction 1000.25” in paragraph (c)(3)(i).

h. Removing “FIPS Publication 201-1” and adding in its place “FIPS Publication 201-2” in paragraph (c)(3)(ii).

Subpart B—DoD Identification (ID) Cards: ID Card Life-Cycle

7. Amend § 161.7 by:

a. Revising the first sentence and the last sentence in paragraph (c) introductory text.

b. Removing “comply with the FIPS Publication 201-1 before a CAC is authorized for issuance” and adding in its place “comply with the DoD Instruction 5200.46 and FIPS Publication 201-2 before a CAC is authorized for issuance” in paragraph (c)(1).

c. Revising paragraph (c)(2) and paragraph (c)(3) introductory text.

d. Revising paragraph (d)(1) introductory text.

e. Removing “from the Form I-9 required for ID card issuance” and adding in its place “from the FIPS Publication 201-2 PIV Identity Proofing and Registration Requirements required for ID card issuance” in paragraph (d)(1)(ii).

f. Removing “DoD Directive 1000.25” and adding in its place “DoD Instruction 1000.25” in paragraph (d)(4).

g. Adding a paragraph heading for paragraph (e)(2)(i).

h. Removing “DD Form 1173, “United States Uniformed Services ID and Privilege Card,” or” in paragraph (e)(2)(i)(A).

i. Revising paragraph (e)(2)(ii).

j. Revising paragraphs (b)(1) introductory text, (c)(1), (d)(1), and (e)(1) in appendix 1 to § 161.7.

k. Removing “FIPS Publication 201-1” and adding in its place “FIPS Publication 201-2” in paragraph (a)(2) in appendix 2 to § 161.7.

The revisions and additions read as follows:

§ 161.7 ID card life-cycle procedures.

* * * * *

(c) Background Investigation. In accordance with this subpart and DoDI 5200.46, “DoD Investigative and Adjudicative Guidance for Issuing the Common Access Card (CAC)” (available at: http://www.dtic.mil/whs/directives/corres/pdf/520046p.pdf), a background investigation is required for those individuals eligible for a CAC. * * * Sponsored CAC applicants shall not be issued a CAC without the required background investigation stipulated in DoDI 5200.46 and FIPS Publication 201-2.

* * * * *

(2) Issuance of a CAC requires, at a minimum, the completion of the Federal Bureau of Investigation (FBI) fingerprint check with favorable results and successful submission of a NACI (or investigation approved in Federal Investigative Standards) to the Office of Personnel Management (OPM). Completed background investigations for CAC issuance shall be adjudicated in accordance with DoD Instruction 5200.46 and Office of Personnel Management Memorandum, “Final Credentialing Standards for Issuing Personal Identity Verification Cards under HSPD-12” (available at http://www.opm.gov/investigate/resources/final_credentialing_standards.pdf).

(3) Except for uniformed services members, special considerations for conducting background investigations of non-U.S. nationals are addressed in DoD Instruction 5200.46. Non-U.S. person CAC applicants that do not meet the criteria to complete a NACI (e.g., U.S. residency requirements), must meet one of the criteria in paragraph (c)(3)(i) or (ii) of this section prior to CAC issuance. CACs issued to these non-U.S. persons shall display a blue stripe as described in appendix 2 of this section. Procedures for the acceptance of this CAC shall be in accordance with DoD Instruction 5200.46 and Office of Personnel Management Memorandum, “Final Credentialing Standards for Issuing Personal Identity Verification Cards under HSPD-12.” The specific background investigation conducted on the non-U.S. person may vary based on governing international agreements. Non-U.S. persons must:

* * * * *

(d) * * *

(1) Identity documents. Applicants for initial ID card issuance shall submit two identity documents in original form as proof of identity. A VO at a RAPIDS workstation shall inspect and verify the documents presented by the applicant before ID card issuance. The identity documents must come from the list of acceptable primary and secondary documents included in the FIPS Publication 201-2 PIV Identity Proofing and Registration Requirements, or, for non-U.S. persons, other sources as outlined within paragraph (d)(1)(ii) of this section. Copies of the identity documentation may be accepted so long as they are certified documents. In accordance with FIPS Publication 201-2 PIV Identity Proofing and Registration Requirements, the identity documents shall be neither expired nor cancelled. The primary identity document shall be a State or Federal Government-issued picture ID. The identity documents shall be inspected for authenticity and scanned and stored in the DEERS in accordance with the DMDC, “Real-time Automated Personnel Identification System (RAPIDS) User Guide” upon issuance of an ID card. The requirement for the primary identity document to have a photo cannot be waived for initial ID card issuance, consistent with applicable statutory requirements. Identity documentation requirements for renewal or re-issuance are provided in paragraph (e)(3) of this section. When it has been determined that a CAC applicant has purposely misrepresented or not provided the applicant's true identity, the case shall be referred by the relevant RAPIDS Service Project office (SPO) to the sponsoring DoD or other Uniformed Service Component organization. The DoD or other Uniformed Service Component organization concerned shall initiate an investigation or provide appeals procedures as appropriate. Exceptions to the identity documentation requirements for initial ID card issuance are provided in paragraphs (d)(1)(i) and (ii) of this section:

* * * * *

(e) * * *

(2) * * *

(i) CACs. * * *

(ii) Non-CAC ID cards. (A) DD Form 1173, “United States Uniformed Services ID and Privilege Card” issued to dependents of DoD civilian employees, contractors, and other eligible personnel assigned overseas or deploying in support of contingency operations shall have an expiration date coinciding with their deployment period end date.

(B) An indefinite DD Form 1173 will be issued to a dependent of retired Service members who are either 75 years of age or permanently incapacitated in accordance with 10 U.S.C. 1060b.

(C) All other non-CAC ID cards shall be given expiration dates in accordance with the guidance listed on www.cac.mil.

* * * * *

Appendix 1 to § 161.7—ID Card Descriptions and Population Eligibility Categories

* * * * *

(b) Armed Forces of the United States Geneva Conventions ID Card—(1) Description. This CAC is the primary ID card for uniformed services members and shall be used to identify the member's eligibility for benefits and privileges administered by the uniformed services as described in subpart C of this part. The CAC shall also be used to facilitate standardized, uniform access to DoD facilities, and installations in accordance with Directive Type Memorandum 09-012, “Interim Policy Guidance for DoD Physical Access Control” (available at: http://www.dtic.mil/whs/directives/corres/pdf/DTM-09-012.pdf) and DoD 5200.08-R, “Physical Security Program,” and to computer systems in accordance with DoD Instruction 8520.02, “Public Key Infrastructure (PKI) and Public Key (PK) Enabling,” (available at: http://www.dtic.mil/whs/directives/corres/pdf/852002p.pdf).

* * * * *

(c) U.S. DoD or Uniformed Services ID Card—(1) Description. This CAC is the primary ID card for eligible civilian employees, contractors, and foreign national affiliates and shall be used to facilitate standardized, uniform access to DoD facilities, and installations in accordance with Directive Type Memorandum 09-012, “Interim Policy Guidance for DoD Physical Access Control” and DoD 5200.08-R, “Physical Security Program,” and computer systems in accordance with DoD Instruction 8520.02, “Public Key Infrastructure (PKI) and Public Key (PK) Enabling.”

* * * * *

(d) U.S. DoD or Uniformed Services ID and Privilege Card—(1) Description. This CAC is the primary ID card for civilian employees, contractors, and foreign national military, as well as other eligible individuals entitled to benefits and privileges administered by the uniformed services as described in subpart C of this part. The CAC shall be used to facilitate standardized, uniform access to DoD facilities, and installations in accordance with Directive Type Memorandum 09-012, “Interim Policy Guidance for DoD Physical Access Control” and DoD 5200.08-R, “Physical Security Program,” and computer systems in accordance with DoD Instruction 8520.02, “Public Key Infrastructure (PKI) and Public Key (PK) Enabling.”

* * * * *

(e) U.S. DoD or Uniformed Service Geneva Conventions ID Card for Civilians Accompanying the Armed Forces—(1) Description. This CAC serves as the DoD and/or Uniformed Services Geneva Conventions ID card for civilians accompanying the uniformed services and shall be used to facilitate standardized, uniform access to DoD facilities, and installations in accordance with Directive Type Memorandum 09-012, “Interim Policy Guidance for DoD Physical Access Control” and DoD 5200.08-R, “Physical Security Program,” and computer systems in accordance with DoD Instruction 8520.02, “Public Key Infrastructure (PKI) and Public Key (PK) Enabling.”

* * * * *

8. Subpart C is revised to read as follows:

Subpart C—DoD Identification (ID) Cards: Benefits for Members of the Uniformed Services, Their Dependents, and Other Eligible Individuals

Sec.
161.9 DoD benefits.
161.10 Benefits for active duty members of the uniformed services.
161.11 Benefits for National Guard and Reserve members of the uniformed services.
161.12 Benefits for former uniformed services members.
161.13 Benefits for retired members of the uniformed services.
161.14 Benefits for MOH recipients.
161.15 Benefits for Disabled American Veterans (DAV).
161.16 Benefits for transitional health care members and dependents.
161.17 Benefits for surviving dependents.
161.18 Benefits for abused dependents.
161.19 Benefits for former spouses.
161.20 Benefits for civilian personnel.
161.21 Benefits for retired civilian personnel.
161.22 Benefits for foreign affiliates.

§ 161.9 DoD benefits.

The benefits population is defined by roles. There are roles that have a direct affiliation with the DoD, such as an active duty Service member, or those that have an association to someone who is affiliated, such as the spouse of an active duty member. This section reflects benefit eligibility established by law and associated DoD policy, and addresses the roles that receive benefits. These benefits can include civilian health care, direct care at an MTF, commissary, exchange, and MWR, which are conveyed on the authorized CAC or uniformed services ID card. Sections 161.10 through 161.22 identify the categories of eligible persons and their authorized benefits as they would be recorded in the Defense Eligibility Enrollment Reporting System (DEERS).

(a) Sections 161.10 through 161.22 reflect the eligibility of persons for the benefits administered by the uniformed services in accordance with 10 U.S.C. chapter 55 and DoD Instruction 1330.17, “Armed Services Commissary Operations” (available at http://www.dtic.mil/whs/directives/corres/pdf/133017p.pdf); DoD Instruction 1330.21, “Armed Services Exchange Regulations” (available at http://www.dtic.mil/whs/directives/corres/pdf/133021p.pdf); and DoD Instruction 1015.10.

(1) Additional benefits may be authorized by DoD Instruction 1330.17, DoD Instruction 1330.21, and DoD Instruction 1015.10, but are not printed on the DoD ID card; access to benefits may be facilitated in another manner in accordance with DoD Instruction 1330.17, DoD Instruction 1330.21, and DoD Instruction 1015.10.

(2) Installation commanders may never authorize benefits beyond those allowed by DoD Instruction 1330.17, DoD Instruction 1330.21, and DoD Instruction 1015.10, but they may deny privileges indicated when base support facilities cannot handle the burden imposed as authorized by DoD Instruction 1330.17, DoD Instruction 1330.21, and DoD Instruction 1015.10.

(b) A sponsor's begin date for benefit eligibility is based on the date the sponsor begins their affiliation with the Department.

(c) A dependent's begin date for benefit eligibility is based on the date the dependent becomes associated as an eligible dependent to an eligible sponsor.

(d) Guidance on benefit eligibility begin dates and ID card expiration dates based on benefits will be maintained at http://www.cac.mil.

(e) Refer to the figure 1 to this subpart for abbreviations for the tables in this subpart.

Figure 1 to Subpart C of Part 161—Benefits Table Abbreviations
CHC | civilian health care.
DC | direct care at MTFs.
C | commissary privileges.
MWR | MWR privileges.
E | exchange privileges.

§ 161.10 Benefits for active duty members of the uniformed services.

This section describes the benefits for active duty uniformed services members and their eligible dependents administered by the uniformed services in accordance with 10 U.S.C. chapter 55. Descriptions of benefits for National Guard and Reserve members and their eligible dependents are contained in § 161.11. Descriptions of benefits for surviving dependents of active duty uniformed services members are contained in § 161.17.

(a) Active duty service members. Active duty uniformed services members are eligible for benefits administered by the uniformed services as shown in Table 1 to this subpart.

Table 1 to Subpart C of Part 161—Benefits for Active Duty Members, Not Including National Guard or Reserve Members
| CHC | DC | C | MWR | E
Member (Self) | No | Yes | Yes | Yes | Yes.

(b) Dependents of active duty members. Dependents of active duty members are eligible for benefits as shown in Table 2 to this subpart. Benefits for the eligible dependents of National Guard or Reserve members, non-regular Service retirees not yet age 60, or members entitled to retired pay or who are in receipt of retired pay for non-regular service, and non-regular Service retirees who are not in receipt of retired pay are identified in §§ 161.11 through 161.14.

Table 2 to Subpart C of Part 161—Benefits for Dependents of Active Duty Members
| CHC | DC | C | MWR | E
Spouse | Yes | Yes | Yes | Yes | Yes.
Children, Unmarried, Under 21 Years:
Legitimate, adopted, stepchild, illegitimate child of record of female member, or illegitimate child of male member whose paternity has been judicially determined or voluntarily acknowledged | Yes | Yes | 1 | 1 | 1.
Ward | 3 | 3 | 3 | 3 | 3.
Pre-adoptive Child | 4 | 4 | 4 | 4 | 4.
Foster Child | No | No | 1 | 1 | 1
Children, Unmarried, 21 Years and Over | 5 | 5 | 6 | 6 | 6.
Parent, Parent-in-Law, Stepparent, or Parent by Adoption | No | 2 | 2 | 2 | 2.
Notes:
1. Yes, if dependent on an authorized sponsor for over 50 percent of the child's support.
2. Yes, if dependent on an authorized sponsor for over 50 percent of the parent's support and residing in the sponsor's household.
3. Yes, if, for determination of dependency made on or after July 1, 1994, placed in the legal custody of the member as a result of a court of competent jurisdiction in the United States (or possession of the United States) for a period of at least 12 consecutive months; and:
a. Is dependent on the member for over 50 percent support.
b. Resides with the member unless separated by the necessity of uniformed service or to receive institutional care as a result of a disability or incapacitation or under such other circumstances as the administering Secretary or Director may, by regulation, prescribe.
4. Yes, if, for determinations of dependency made on or after October 5, 1994, placed in the home of the member by a placement agency (recognized by the Secretary of Defense) or by another organization authorized by State or local law to provide adoption placement, in anticipation of the legal adoption by the member.
5. Yes, if the child:
a. Has not attained the age of 23, is enrolled in a full-time course of study at an institution of higher learning approved by the administering Secretary and is dependent on the member for over 50 percent of the child's support; or
b. Is incapable of self-support because of a mental or physical incapacity that existed before age 21, or occurred before the age of 23 while a full-time student, while a dependent of a member and is dependent on the member for over 50 percent of the child's support.
6. Yes, if the child:
a. Has not attained the age of 23, is enrolled in a full-time course of study at an institution of higher learning approved by the administering Secretary and is dependent on the member for over 50 percent of the child's support; or
b. Is incapable of self-support because of a mental or physical incapacity and is dependent on the member for over 50 percent of the child's support.

§ 161.11 Benefits For National Guard and Reserve members of the uniformed services.

This section describes the benefits for National Guard and Reserve members of the uniformed services and their eligible dependents. Benefits for members of the Retired Reserve and their eligible dependents are described in § 161.13. Benefits for surviving dependents of deceased National Guard and Reserve members are described in § 161.17.

(a) National Guard and Reserve members. National Guard and Reserve members are eligible for benefits based on being ordered to periods of active duty or full-time National Guard duty or active status in the SelRes, including Ready Reserve and Standby Reserve and participation in the Reserve Officer Training Corps.

Table 3 to Subpart C of Part 161—Benefits for National Guard and Reserve Members Not on Active Duty Greater Than 30 Days
| CHC | DC | C | MWR | E
Member (Self) | No | No | Yes | Yes | Yes.

Table 4 to Subpart C of Part 161—Benefits for National Guard and Reserve Members on Active Duty for Periods Greater Than 30 Days
| CHC | DC | C | MWR | E
Member (Self) | No | Yes | Yes | Yes | Yes.
Notes:
1. This includes reported periods of early identification of Service members in support of a contingency operation in accordance with DoD Instruction 7730.54, “Reserve Components Common Personnel Data System (RCCPDS)” (available at http://www.dtic.mil/whs/directives/corres/pdf/773054p.pdf).

(b) Dependents of National Guard or Reserve members. Dependents of National Guard or Reserve members are eligible for benefits as shown in Table 5 to this subpart.

Table 5 to Subpart C of Part 161—Benefits for Dependents of National Guard or Reserve Members
| CHC | DC | C | MWR | E
Spouse | 1 | 1 | Yes | Yes | Yes.
Children, Unmarried, Under 21 Years:
Legitimate, adopted, stepchild, illegitimate child of record of female member, or illegitimate child of male member whose paternity has been judicially determined or voluntarily acknowledged | 1 | 1 | 2 | 2 | 2.
Ward | 1, 4 | 1, 4 | 4 | 4 | 4.
Pre-adoptive Child | 1, 5 | 1, 5 | 5 | 5 | 5.
Foster Child | No | No | 2 | 2 | 2.
Children, Unmarried, 21 Years and Over | 1, 6 | 1, 6 | 7 | 7 | 7.
Parent, Parent-in-Law, Stepparent, or Parent by Adoption | No | 1, 3 | 3 | 3 | 3.
Notes:
1. Yes, if the sponsor is on active duty greater than 30 days. When the order to active duty period is greater than 30 days the eligibility for CHC and DC for eligible dependents begins on the first day of the active duty period.
2. Yes, if dependent on an authorized sponsor for over 50 percent of the child's support.
3. Yes, if dependent on an authorized sponsor for over 50 percent support of the parent's support and residing in the sponsor's household.
4. Yes, if, for determination of dependency made on or after July 1, 1994, placed in the legal custody of the member as a result of a court of competent jurisdiction in the United States (or possession of the United States) for a period of at least 12 consecutive months; and:
a. Is dependent on the member for over 50 percent support.
b. Resides with the member unless separated by the necessity of uniformed service or to receive institutional care as a result of a disability or incapacitation or under such other circumstances as the administering Secretary may, by regulation, prescribe.
5. Yes, if, for determinations of dependency made on or after October 5, 1994, placed in the home of the member by a placement agency (recognized by the Secretary of Defense) or by another source authorized by State or local law to provide adoption placement, in anticipation of the legal adoption by the member.
6. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member and is dependent on the member for over 50 percent of the child's support.
7. Yes, if the child:
a. Has not attained the age of 23, is enrolled in a full-time course of study at an institution of higher learning approved by the administering Secretary, and is dependent on the member for over 50 percent of the child's support; or
b. Is incapable of self-support because of a mental or physical incapacity and is dependent on the member for over 50 percent of the child's support.

§ 161.12 Benefits for former uniformed services members.

This section describes the benefits for former uniformed services members and their eligible dependents. Former members are eligible to receive retired pay, at age 60, for non-regular service in accordance with 10 U.S.C. chapter 1223, but have been discharged from their respective Service or agency and maintain no military affiliation.

(a) Former members and their eligible dependents. Former members and their dependents are eligible for benefits as shown in Table 6 to this subpart.

Table 6 to Subpart C of Part 161—Benefits for Former Members and Dependents
| CHC | DC | C | MWR | E
Former Member (Self) | 1 | 1 | Yes | Yes | Yes.
Lawful Spouse | 1 | 2 | Yes | Yes | Yes.
Children, Unmarried, Under 21 Years:
Legitimate, adopted, stepchild, illegitimate child of record of female member, or illegitimate child of male member whose paternity has been judicially determined or voluntarily acknowledged | 1 | 2 | 3 | 3 | 3.
Ward | 1, 5 | 2, 5 | 5 | 5 | 5.
Pre-adoptive Child | 1, 6 | 2, 6 | 6 | 6 | 6.
Foster Child | No | No | 3 | 3 | 3.
Children, Unmarried, 21 Years and Over | 1, 7 | 2, 7 | 8 | 8 | 8.
Parent, Parent-in-Law, Stepparent, or Parent by Adoption | No | 2, 4 | 4 | 4 | 4.
Notes:
1. Yes, if the former member is age 60 or over and in receipt of retired pay for non-regular service; and is:
a. Not entitled to Medicare Part A hospital insurance through the SSA, or
b. Entitled to Medicare Part A hospital insurance and enrolled in Medicare Part B medical insurance or qualified as an exception in accordance with section 706 of Public Law 111-84, “National Defense Authorization Act for Fiscal Year 2010.”
2. Yes, if former member is age 60 or over and in receipt of retired pay for non-regular service.
3. Yes, if dependent on an authorized sponsor for over 50 percent of the child's support.
4. Yes, if dependent on an authorized sponsor for over 50 percent of the parent's support and residing in the sponsor's household.
5. Yes, if, for determination of dependency made on or after July 1, 1994, placed in the legal custody of the member or former member as a result of a court of competent jurisdiction in the United States (or possession of the United States) for a period of at least 12 consecutive months; and:
a. Is dependent on the member for over 50 percent support.
b. Resides with the member or former member unless separated by the necessity of uniformed service or to receive institutional care as a result of a disability or incapacitation or under such other circumstances as the administering Secretary may, by regulation, prescribe.
6. Yes, if, for determinations of dependency made on or after October 5, 1994, placed in the home of the member or former member by a placement agency (recognized by the Secretary of Defense) or by another source authorized by State or local law to provide adoption placement, in anticipation of the legal adoption by the member or former member.
7. Yes, if the child:
a. Has not attained the age of 23, is enrolled in a full-time course of study at an institution of higher learning approved by the administering Secretary, and is dependent on the former member for over 50 percent of the child's support; or
b. Is incapable of self-support because of a mental or physical incapacity that existed before age 21, or occurred before the age of 23 while a full-time student, while a dependent of a member or former member, and is dependent on the member or former member for over 50 percent of the child's support.
8. Yes, if the child:
a. Has not attained the age of 23, is enrolled in a full-time course of study at an institution of higher learning approved by the administering Secretary, and is dependent on the former member for over 50 percent of the child's support; or
b. Is incapable of self-support because of a mental or physical incapacity and is dependent on the former member for over 50 percent of the child's support.

(b) [Reserved]

§ 161.13 Benefits for retired members of the uniformed services.

This section describes the benefits for retired uniformed service members entitled to retired pay and their eligible dependents. Retired uniformed service members are entitled to retired pay and eligible for benefits administered by the uniformed services in accordance with 10 U.S.C., DoD Instruction 1330.17, DoD Instruction 1330.21, DoD Instruction 1015.10, and TRICARE Policy Manual 6010.57-M (available at http://www.tricare.mil/contracting/healthcare/t3manuals/change2/tp08/c8s9_1.pdf). This includes voluntary, temporary, and permanent disability retired list (PDRL) retirees. Benefits for former members and their eligible dependents are described in § 161.12.

(a) Retired members. Benefits for voluntary retired members and PDRL retirees are shown in Table 7 to this subpart. Benefits for temporary disability retired list (TDRL) retirees are shown in Table 8 to this subpart.

Table 7 to Subpart C of Part 161—Benefits for Voluntary Retired Members and PDRL Members
| CHC | DC | C | MWR | E
Member (Self) | 1 | Yes | Yes | Yes | Yes.
Notes:
1. Yes, if:
a. Not entitled to Medicare Part A hospital insurance through the SSA or
b. Entitled to Medicare Part A hospital insurance and enrolled in Medicare Part B medical insurance or qualified as an exception in accordance with section 706 of Public Law 111-84.

Table 8 to Subpart C of Part 161—Benefits for TDRL Members
| CHC | DC | C | MWR | E
Member (Self) | 1, 2 | Yes | Yes | Yes | Yes.
Notes:
1. If not removed sooner, retention of the service member on the TDRL shall not exceed a period of 5 years. The uniformed service member must be returned to active duty, separated with or without severance pay, or retired as PDRL in accordance with 10 U.S.C. 1210.
2. Yes, if:
a. Not entitled to Medicare Part A hospital insurance through the SSA or
b. Entitled to Medicare Part A hospital insurance and enrolled in Medicare Part B medical insurance or qualified as an exception in accordance with section 706 of Public Law 111-84.

(b) Retired Reserve. Benefits for members of the Retired Reserve who have attained 20 creditable years of service, have not reached the age of 60, and are not in receipt of retired pay are shown in Table 9 to this subpart. When a Retired Reserve member is ordered to active duty greater than 30 days, their benefits will reflect what is shown in Table 10 to this subpart. When a Retired Reserve member is in receipt of retired pay under age 60 (non-regular Service retirement), or upon reaching age 60, their benefits will reflect what is shown in Table 11 to this subpart.

Table 9 to Subpart C of Part 161—Benefits for Retired Reserve Members
| CHC | DC | C | MWR | E
Member (Self) | No | No | Yes | Yes | Yes.

Table 10 to Subpart C of Part 161—Benefits for Retired Reserve Members Ordered to Active Duty Greater Than 30 Days
| CHC | DC | C | MWR | E
Member (Self) | No | Yes | Yes | Yes | Yes.

Table 11 to Subpart C of Part 161—Benefits for Non-Regular Service Retirement for Qualifying Ready Reserve Members
| CHC | DC | C | MWR | E
Member (Self) | 1 | 1 | Yes | Yes | Yes.
Notes:
1. Yes, if age 60 or over, and:
a. Applied for or in receipt of retired pay in accordance with 10 U.S.C. 1074. If in receipt of retired pay in accordance with the provisions of 10 U.S.C. 12731, after the date of the enactment of section 647 of Public Law 110-181, “National Defense Authorization Act for Fiscal Year 2008,” the member must be age 60 to qualify for CHC and DC.
b. Not entitled to Medicare Part A hospital insurance through the SSA, or
c. Entitled to Medicare Part A hospital insurance and enrolled in Medicare Part B medical insurance or qualified as an exception in accordance with section 706 of Public Law 111-84.

(c) Dependents. Dependents of retired uniformed services members entitled to retired pay, including TDRL and PDRL, non-regular Service retirees not yet age 60 not in receipt of retired pay; non-regular Service retirees entitled to retired pay in accordance with the provisions of 10 U.S.C. 12731 after the date of the enactment of section 647 of Public Law 110-181; and non-regular Service retirees, age 60 or over, in receipt of retired pay for non-regular service in accordance with 10 U.S.C. chapter 1223, are eligible for benefits as shown in Table 12 to this subpart.

Table 12 to Subpart C of Part 161—Benefits for Dependents of Retired Uniformed Services Members
| CHC | DC | C | MWR | E
Lawful Spouse | 1 | 2 | Yes | Yes | Yes.
Children, Unmarried, Under 21 Years:
Legitimate, adopted, stepchild, illegitimate child of record of female member, or illegitimate child of male member whose paternity has been judicially determined or voluntarily acknowledged | 1 | 2 | 3 | 3 | 3.
Ward | 1, 5 | 2, 5 | 5 | 5 | 5.
Pre-adoptive Child | 1, 6 | 2, 6 | 6 | 6 | 6.
Foster Child | No | No | 3 | 3 | 3.
Children, Unmarried, 21 Years and Over | 1, 7 | 2, 7 | 8 | 8 | 8.
Parent, Parent-in-Law, Stepparent, or Parent by Adoption | No | 2, 4 | 4 | 4 | 4.
Notes:
1. Yes, if the sponsor is:
a. Retired (as shown in Tables 7 and 8 to this subpart) and the dependent is not entitled to Medicare Part A hospital insurance through the SSA; or if entitled to Medicare Part A hospital insurance and enrolled in Medicare Part B medical insurance or qualified as an exception in accordance with section 706 of Public Law 111-84;
b. A National Guard or Reserve member on a period of active duty in excess of 30 days (as shown in Table 10 to this subpart). When the ordered to active duty period is greater than 30 days the eligibility for CHC and DC for the eligible dependents begins on the first day of the active duty period; or
c. A medically eligible non-regular Service Reserve Retiree, age 60 or over, as shown in Table 11 of this subpart.
2. Yes, if the sponsor is:
a. Retired (as shown in Tables 7 and 8 to this subpart);
b. A National Guard or Reserve member on a period of active duty in excess of 30 days (as shown in Table 10 to this subpart). When the ordered to active duty period is greater than 30 days the eligibility for CHC and DC for the eligible dependents begins on the first day of the active duty period; or
c. A medically eligible non-regular Service Reserve Retiree, age 60 or over, as seen in Table 11 to this subpart.
3. Yes, if dependent on an authorized sponsor for over 50 percent of the child's support.
4. Yes, if dependent on an authorized sponsor for over 50 percent of the parent's support and residing in the sponsor's household.
5. Yes, if, for determination of dependency made on or after July 1, 1994, placed in the legal custody of the member or former member as a result of a court of competent jurisdiction in the United States (or possession of the United States) for a period of at least 12 consecutive months; and:
a. Is dependent on the member for over 50 percent support.
b. Resides with the member or former member unless separated by the necessity of uniformed service or to receive institutional care as a result of a disability or incapacitation or under such other circumstances as the administering Secretary may, by regulation, prescribe.
6. Yes, if, for determinations of dependency made on or after October 5, 1994, placed in the home of the member or former member by a placement agency (recognized by the Secretary of Defense) or by another source authorized by State or local law to provide adoption placement, in anticipation of the legal adoption by the member or former member.
7. Yes, if the child:
a. Has not attained the age of 23, is enrolled in a full-time course of study at an institution of higher learning approved by the administering Secretary, and is dependent on the former member for over 50 percent of the child's support; or
b. Is incapable of self-support because of a mental or physical incapacity that existed before age 21, or occurred before the age of 23 while a full-time student, while a dependent of a member or former member, and is dependent on the member or former member for over 50 percent of the child's support.
8. Yes, if the child:
a. Has not attained the age of 23, is enrolled in a full-time course of study at an institution of higher learning approved by the administering Secretary, and is dependent on the retired member for over 50 percent of the child's support; or
b. Is incapable of self-support because of a mental or physical incapacity and is dependent on the retired member for over 50 percent of child's support.

§ 161.14 Benefits for MOH recipients.

This section describes the benefits for MOH recipients and their dependents who are authorized pursuant to section 706 of Public Law 106-398, “National Defense Authorization Act for Fiscal Year 2001” and who are not otherwise entitled to military medical and dental care. Section 706 of Public Law 106-398 authorized MOH recipients not otherwise entitled to military medical and dental care and their dependents to be given care in the same manner that such care is provided to former uniformed service members who are entitled to military retired pay and the dependents of those former members. Eligibility for the benefits described in Table 13 to this subpart begins on the date of award of the MOH but no earlier than October 30, 2000.

Table 13 to Subpart C of Part 161—Benefits for MOH Recipients and Dependents
| CHC | DC | C | MWR | E
Self | 1 | 2 | Yes | Yes | Yes.
Lawful Spouse | 1 | 2 | Yes | Yes | Yes.
Children, Unmarried, Under 21 Years:
Legitimate, adopted, stepchild, illegitimate child of record of female member, or illegitimate child of male member whose paternity has been judicially determined or voluntarily acknowledged
Ward | 1, 5 | 2, 5 | 5 | 5 | 5.
Pre-adoptive Child | 1, 6 | 2, 6 | 6 | 6 | 6.
Foster Child | No | No | 3 | 3 | 3.
Children, Unmarried, 21 Years and Over | 1, 7 | 2, 7 | 8 | 8 | 8.
Parent, Parent-in-Law, Stepparent, or Parent by Adoption | No | 2, 4 | 4 | 4 | 4.
Notes:
1. Yes, if the sponsor is a MOH recipient and is not otherwise entitled to medical care as of or after October 30, 2000 pursuant to section 706 of Public Law 106-398 and:
a. Is not entitled to Medicare Part A hospital insurance through the SSA or
b. Is entitled to Medicare Part A hospital insurance and enrolled in Medicare Part B medical insurance or qualified as an exception in accordance with section 706 of Public Law 111-84.
2. Yes, if the sponsor is a MOH recipient and is not otherwise entitled to medical care as of or after October 30, 2000 pursuant to section 706 of Public Law 106-398.
3. Yes, if dependent on an authorized sponsor for over 50 percent of the child's support.
4. Yes, if dependent on an authorized sponsor for over 50 percent of the parent's support and residing in the sponsor's household.
5. Yes, if, for determination of dependency made on or after July 1, 1994, placed in the legal custody of the member or former member as a result of a court of competent jurisdiction in the United States (or possession of the United States) for a period of at least 12 consecutive months; and:
a. Is dependent on the member for over 50 percent support.
b. Resides with the member or former member unless separated by the necessity of uniformed service or to receive institutional care as a result of a disability or incapacitation or under such other circumstances as the administering Secretary may, by regulation, prescribe.
6. Yes, if, for determinations of dependency made on or after October 5, 1994, placed in the home of the member or former member by a placement agency (recognized by the Secretary of Defense) or by another source authorized by State or local law to provide adoption placement, in anticipation of the legal adoption by the member or former member.
7. Yes, if the child:
a. Has not attained the age of 23, is enrolled in a full-time course of study at an institution of higher learning approved by the administering Secretary, and is dependent on the former member for over 50 percent of the child's support or
b. Is incapable of self-support because of a mental or physical incapacity that existed before age 21, or occurred before the age of 23 while a full-time student, while a dependent of a member or former member, and is dependent on the member or former member for over 50 percent of the child's support.
8. Yes, if the child:
a. Has not attained the age of 23, is enrolled in a full-time course of study at an institution of higher learning approved by the administering Secretary, and is dependent on the MOH recipient for over 50 percent of the child's support; or
b. Is incapable of self-support because of a mental or physical incapacity and is dependent on the MOH recipient for over 50 percent of the child's support.

§ 161.15 Benefits for Disabled American Veterans (DAV).

This section describes the benefits for DAVs rated as 100 percent disabled or incapable of pursuing substantially gainful employment by the VA and their eligible dependents. Neither DAVs nor their eligible dependents receive CHC or DC benefits from the DoD based on their affiliation. Honorably discharged veterans rated by the VA as 100 percent disabled or incapable of pursuing substantially gainful employment from a service-connected injury or disease, and their dependents, are eligible for benefits as shown in Table 14 to this subpart.

Table 14 to Subpart C of Part 161—Benefits for 100 Percent DAVs and Dependents
| CHC | DC | C | MWR | E
Self | No | No | Yes | Yes | Yes.
Lawful Spouse | No | No | Yes | Yes | Yes.
Children, Unmarried, Under 21 Years:
Legitimate, adopted, stepchild, illegitimate child of record of female member, or illegitimate child of male member whose paternity has been judicially determined or voluntarily acknowledged | No | No | 1 | 1 | 1.
Ward | No | No | 3 | 3 | 3.
Pre-adoptive Child | No | No | 4 | 4 | 4.
Foster Child | No | No | 1 | 1 | 1.
Children, Unmarried, 21 Years and Over | No | No | 5 | 5 | 5.
Parent, Parent-in-Law, Stepparent, or Parent-by-Adoption | No | No | 2 | 2 | 2.
Notes:
1. Yes, if dependent on an authorized sponsor for over 50 percent of the child's support.
2. Yes, if dependent on an authorized sponsor for over 50 percent of the parent's support and residing in the sponsor's household.
3. Yes, if, for determination of dependency made on or after July 1, 1994, placed in the legal custody of the member or former member as a result of a court of competent jurisdiction in the United States (or possession of the United States) for a period of at least 12 consecutive months; and:
a. Is dependent on the member for over 50 percent support.
b. Resides with the member or former member unless separated by the necessity of uniformed service or to receive institutional care as a result of a disability or incapacitation or under such other circumstances as the administering Secretary may, by regulation, prescribe.
4. Yes, if, for determinations of dependency made on or after October 5, 1994, placed in the home of the member or former member by a placement agency (recognized by the Secretary of Defense) or by another source authorized by State or local law to provide adoption placement, in anticipation of the legal adoption by the member or former member.
5. Yes, if the child:
a. Has not attained the age of 23, is enrolled in a full-time course of study at an institution of higher learning approved by the administering Secretary, and is dependent on the authorized sponsor for over 50 percent of the child's support or
b. Is incapable of self-support because of a mental or physical incapacity, and is dependent on the authorized sponsor for over 50 percent of the child's support.

§ 161.16 Benefits for transitional health care members and dependents.

This section shows the benefits for THC members and their eligible dependents. THC (formerly the TAMP) was instituted in section 502 of Public Law 101-510, “Department of Defense Appropriations Bill Fiscal Year 1991” effective October 1, 1990. Section 706 of Public Law 108-375, “National Defense Authorization Act of for Fiscal Year 2005” made the THC program permanent and made the medical eligibility 180 days for all eligible uniformed services members. Section 651 of Public Law 110-181 extended 2 years' commissary and exchange benefits to THC members. Section 734 of Public Law 110-417, “National Defense Authorization Act for Fiscal Year 2009” extended THC benefits to uniformed service members separating from active duty who agree to become members of the SelRes of the Ready Reserve of a reserve component. Uniformed service members separated as uncharacterized entry-level separations do not qualify for THC.

Table 15 to Subpart C of Part 161—Benefits for THC Members and Dependents
| CHC | DC | C | MWR | E
THC Member (Self) | 1 | 1 | 2, 3 | 2, 3 | 2, 3.
Lawful Spouse | 1 | 1 | 2, 3 | 2, 3 | 2, 3.
Children, Unmarried, Under 21 Years:
Legitimate, adopted, stepchild, illegitimate child of record of female member, or illegitimate child of male member whose paternity has been judicially determined or voluntarily acknowledged | 1 | 1 | 2, 3, 4 | 2, 3, 4 | 2, 3. 4.
Ward | 1, 6 | 1, 6 | 2, 3, 6 | 2, 3, 6 | 2, 3, 6.
Pre-adoptive Child | 1, 7 | 1, 7 | 2, 3, 7 | 2, 3, 7 | 2, 3, 7.
Foster Child | No | No | 2, 3, 4 | 2, 3, 4 | 2, 3, 4.
Children, Unmarried, 21 Years and Over | 1, 8 | 1, 8 | 9 | 9 | 9.
Parent, Parent-in-Law, Stepparent, or Parent-by-Adoption | No | 1, 5 | 2, 3, 5 | 2, 3, 5 | 2, 3, 5.
Notes:
1. Yes, medical entitlement for 180 days beginning on the date after the member separated from the qualifying active duty period. There is no exception based on entitlement to Medicare Part A. The THC eligible sponsor and eligible dependents receive the medical benefits as if they were active duty eligible dependents.
2. No, if the member:
a. Separated on or after January 1, 2001 but before October 1, 2007
b. Separated in accordance with 10 U.S.C. 1145(a)(2)(F).
c. Separated from active duty to join the SelRes or the Ready Reserve of a Reserve Component.
3. Yes, if the member was separated during the period beginning on October 1, 1990, through December 31, 2001, or after October 1, 2007. Entitlement shall be for 2 years, beginning on the date the member separated.
4. Yes, if dependent on an authorized sponsor for over 50 percent of the child's support.
5. Yes, if dependent on an authorized sponsor for over 50 percent of the parent's support and residing in the sponsor's household.
6. Yes, if, for determination of dependency made on or after July 1, 1994, placed in the legal custody of the member or former member as a result of a court of competent jurisdiction in the United States (or possession of the United States) for a period of at least 12 consecutive months; and:
a. Is dependent on the member for over 50 percent support.
b. Resides with the member or former member unless separated by the necessity of uniformed service or to receive institutional care as a result of a disability or incapacitation or under such other circumstances as the administering Secretary may, by regulation, prescribe.
7. Yes, if, for determinations of dependency made on or after October 5, 1994, placed in the home of the member or former member by a placement agency (recognized by the Secretary of Defense) or by another source authorized by State or local law to provide adoption placement, in anticipation of the legal adoption by the member or former member.
8. Yes, if the child:
a. Has not attained the age of 23, is enrolled in a full-time course of study at an institution of higher learning approved by the administering Secretary, and is dependent on the authorized sponsor for over 50 percent of the child's support; or
b. Is incapable of self-support because of a mental or physical incapacity that existed before age 21, or occurred before the age of 23 while a full-time student, while a dependent of a member or former member, and is dependent on the authorized sponsor for over 50 percent of the child's support.
9. Yes, if the child:
a. Has not attained the age of 23, is enrolled in a full-time course of study at an institution of higher learning approved by the administering Secretary, and is dependent on the authorized sponsor for over 50 percent of the child's support; or
b. Is incapable of self-support because of a mental or physical incapacity and is dependent on the authorized sponsor for over 50 percent of the child's support.

§ 161.17 Benefits for surviving dependents.

This section describes the benefits for surviving dependents of active duty deceased uniformed services members, deceased National Guard and Reserve service members, deceased MOH recipients, and deceased 100 percent DAV. Surviving children who are adopted by a non-military member after the death of the sponsor remain eligible for all benefits as shown in this section.

(a) Surviving dependents of active duty deceased members. Surviving dependents of members who died while on active duty under orders that specified a period of more than 30 days or members who died while in a retired with pay status are eligible for benefits as shown in Table 16 to this subpart.

Table 16 to Subpart C of Part 161—Benefits for Surviving Dependents of Active Duty Deceased Members
| CHC | DC | C | MWR | E
Widow or widower:
Unremarried | 1 | Yes | Yes | Yes | Yes.
Remarried | No | No | No | No | No.
Unmarried | No | No | Yes | Yes | Yes.
Children, Unmarried, or Under 21 Years (Including Orphans):
Legitimate, adopted, stepchild, illegitimate child of record of female member, or illegitimate child of male member whose paternity has been judicially determined or voluntarily acknowledged | 1 | Yes | 2 | 2 | 2.
Ward | 1, 4 | 1, 4 | 4 | 4 | 4.
Pre-adoptive Child | 1, 5 | 1, 5 | 5 | 5 | 5.
Foster Child | No | No | 2 | 2 | 2.
Children, Unmarried, 21 Years and Over | 1, 6 | 6 | 7 | 7 | 7.
Parent, Parent-in-Law, Stepparent, or Parent by Adoption | No | 3 | 3 | 3 | 3.
Notes:
1. Yes, if the sponsor died on active duty (for dependents of National Guard or Reserve members or Retired Reserve members the period of active duty must be in excess of 30 days in order to qualify for the benefits in this table) and:
a. If claims are filed less than 3 years from the date of death, there is no Medicare exception for the widow. After 3 years from the date of death, the widow is eligible if,
(1) Not entitled to Medicare Part A hospital insurance through the SSA.
(2) Entitled to Medicare Part A hospital insurance and enrolled in Medicare Part B medical insurance or qualified as an exception in accordance with section 706 of Public Law 111-84.
b. Yes, for children regardless of the number of years from the date of death or entitlement to Medicare they are entitled.
2. Yes, if dependent on an authorized sponsor for over 50 percent of the child's support at the time of the sponsor's death.
3. Yes, if dependent on an authorized sponsor for over 50 percent of the parent's support and residing in the sponsor's household at the time of the sponsor's death.
4. Yes, if, for determinations of dependency made on or after July 1, 1994, and prior to the death of the member, the child had been placed in the legal custody of the member as a result of a court of competent jurisdiction in the United States (or possession of the United States) for a period of at least 12 consecutive months; and was at the time of the sponsor's death:
a. Dependent on the member for over 50 percent support.
b. Residing with the member unless separated by the necessity of uniformed service or to receive institutional care as a result of a disability or incapacitation or under such other circumstances as the administering Secretary may, by regulation, prescribe.
5. Yes, if, for determinations of dependency made on or after October 5, 1994, and prior to the death of the member, the child had been placed in the home of the member by a placement agency (recognized by the Secretary of Defense) or by another source authorized by State or local law to provide adoption placement, in anticipation of the legal adoption by the member.
6. Yes, if the child:
a. Has not attained the age of 23, is enrolled in a full-time course of study at an institution of higher learning approved by the administering Secretary, and is or was at the time of the member's death dependent on the member for over 50 percent of the child's support; or
b. Is incapable of self-support because of a mental or physical incapacity that existed before age 21, or occurred before the age of 23 while a full-time student, while a dependent of a member or former member and is or was at the time of the member's death dependent on the member for over 50 percent of the child's support.
7. Yes, if the child:
a. Has not attained the age of 23, is enrolled in a full-time course of study at an institution of higher learning approved by the administering Secretary, and is, or was at the time of the member's death, dependent on the member for over 50 percent of the child's support.
b. Is incapable of self-support because of a mental or physical incapacity and is, or was at the time of the member's death, dependent on the member for over 50 percent of the child's support.

(b) Surviving dependents of deceased National Guard and Reserve members not on an active duty period greater than 30 days. The surviving dependents of National Guard and Reserve Service members are eligible for the benefits shown in Table 17 to this subpart if:

(1) The National Guard or Reserve member died from an injury or illness incurred or aggravated while on active duty for a period of 30 days or less, on active duty for training, or on inactive duty training, or while traveling to or from the place at which the member was to perform, or performed, such active duty, active duty for training, or inactive duty training pursuant to 10 U.S.C. 1076 and 1086(c)(2) and if death occurred on or after October 1, 1985; or

(2) The National Guard or Reserve member died from an injury, illness, or disease incurred or aggravated while performing, or while traveling to or from performing active duty for a period of 30 days or less, or active duty for training, or inactive duty training, or while performing service on funeral honors in accordance with 10 U.S.C. 1074a and if death occurred on or after November 15, 1986.

Table 17 to Subpart C of Part 161—Benefits for Surviving Dependents of Deceased National Guard and Reserve Members Not On Active Duty for a Period Greater Than 30 Days
| CHC | DC | C | MWR | E
Widow or Widower:
Unremarried | 1, 2 | 2 | Yes | Yes | Yes.
Remarried | No | No | No | No | No.
Unmarried | No | No | Yes | Yes | Yes.
Children, Unmarried, Under 21 Years (Including Orphans):
Legitimate, adopted, stepchild, illegitimate child of record of female member, or illegitimate child of male member whose paternity has been judicially determined or voluntarily acknowledged | 1, 2 | 2 | 3 | 3 | 3.
Ward | 1, 2, 5 | 2, 5 | 5 | 5 | 5.
Pre-adoptive Child | 1, 2, 6 | 2, 6 | 6 | 6 | 6.
Foster Child | No | No | 3 | 3 | 3.
Children, Unmarried, 21 Years and Over | 1, 2, 7 | 2, 7 | 8 | 8 | 8.
Parent, Parent-in-Law, Stepparent, or Parent by Adoption | No | 2, 4 | 4 | 4 | 4.
Notes:
1. Yes, if:
a. Not entitled to Medicare Part A hospital insurance through the SSA.
b. Entitled to Medicare Part A hospital insurance and enrolled in Medicare Part B medical insurance or qualified as an exception in accordance with section 706 of Public Law 111-84.
2. Yes, only if death occurred on or after 1 October 1985 in accordance with the provisions of 10 U.S.C. 1076, or on or after November 15, 1986 in accordance with the provisions of 10 U.S.C. 1074a.
3. Yes, if dependent on an authorized sponsor for over 50 percent of the child's support at the time of the sponsor's death.
4. Yes, if dependent on an authorized sponsor for over 50 percent of the parent's support and residing in the sponsor's household at the time of the sponsor's death.
5. Yes, if, for determinations of dependency made on or after July 1, 1994, and prior to the death of the member, the child had been placed in the legal custody of the member as a result of a court of competent jurisdiction in the United States (or possession of the United States) for a period of at least 12 consecutive months and was at the time of the sponsor's death:
a. Dependent on the member for over 50 percent support.
b. Residing with the member unless separated by the necessity of uniformed service or to receive institutional care as a result of a disability or incapacitation or under such other circumstances as the administering Secretary may, by regulation, prescribe.
6. Yes, if, for determinations of dependency made on or after October 5, 1994, and prior to the death of the member, the child had been placed in the home of the member by a placement agency (recognized by the Secretary of Defense) or by another source authorized by State or local law to provide adoption placement, in anticipation of the legal adoption.
7. Yes, if the child:
a. Has not attained the age of 23, is enrolled in a full-time course of study at an institution of higher learning approved by the administering Secretary, and is or was at the time of the member's death dependent on the member for over 50 percent of the child's support; or
b. Is incapable of self-support because of a mental or physical incapacity that existed before age 21, or occurred before the age of 23 while a full-time student, while a dependent of a member and is or was at the time of the member's or former member's death dependent on the member for over 50 percent of the child's support.
8. Yes, if the child:
a. Has not attained the age of 23, is enrolled in a full-time course of study at an institution of higher learning approved by the administering Secretary, and is, or was at the time of the member's death, dependent on the member for over 50 percent of the child's support.
b. Is incapable of self-support because of a mental or physical incapacity and is, or was at the time of the member's death, dependent on the member for over 50 percent of the child's support.

(c) Surviving dependents of deceased National Guard and Reserve members in receipt of their notice of eligibility (NOE), Retired Reserve members not yet age 60, and former members not in receipt of retired pay. The surviving dependents of National Guard and Reserve members who have died before the age of 60 are eligible for the benefits shown in Table 18 to this subpart if the deceased sponsor was:

(1) A Reserve member who had earned 20 qualifying years for retirement and received their NOE for retired pay at age 60, but had not transferred to the Retired Reserve.

(2) A Retired Reserve member eligible for pay at age 60, not yet age 60.

(3) A former member who had met time-in-service requirements.

Table 18 to Subpart C of Part 161—Benefits for Surviving Dependents of National Guard and Reserve Members Who Have Died Before Age 60
| CHC | DC | C | MWR | E
Widow or Widower:
Unremarried | 1, 2 | 1 | Yes | Yes | Yes.
Remarried | No | No | No | No | No.
Unmarried | No | No | Yes | Yes | Yes.
Children, Unmarried, Under 21 Years (Including Orphans):
Legitimate, adopted, stepchild, illegitimate child of record of female member, or illegitimate child of male member whose paternity has been judicially determined or voluntarily acknowledged | 1, 2 | 1 | 3 | 3 | 3.
Ward | 1, 2, 5 | 1, 5 | 5 | 5 | 5.
Pre-adoptive Child | 1, 2, 6 | 1, 6 | 6 | 6 | 6.
Foster Child | No | No | 3 | 3 | 3.
Children, Unmarried, 21 Years and Over | 1, 2, 7 | 1, 7 | 8 | 8 | 8.
Parent, Parent-in-Law, Stepparent, or Parent by Adoption | No | 1, 4 | 4 | 4 | 4.
Notes:
1. Yes, on or after the date the member would have become age 60.
2. Yes, if:
a. Not entitled to Medicare Part A hospital insurance through the SSA or
b. Entitled to Medicare Part A hospital insurance and enrolled in Medicare Part B medical insurance or qualified as an exception in accordance with section 706 of Public Law 111-84.
3. Yes, if dependent on an authorized sponsor for over 50 percent of the child's support at the time of the sponsor's death.
4. Yes, if dependent on an authorized sponsor for over 50 percent of the parent's support and residing in the sponsor's household at the time of the sponsor's death.
5. Yes, if, for determinations of dependency made on or after July 1, 1994, and prior to the death of the member, the child had been placed in the legal custody of the member or former member as a result of a court of competent jurisdiction in the United States (or possession of the United States) for a period of at least 12 consecutive months; and was at the time of the sponsor's death:
a. Dependent on the member for over 50 percent support.
b. Residing with the member or former member unless separated by the necessity of uniformed service or to receive institutional care as a result of a disability or incapacitation or under such other circumstances as the administering Secretary may, by regulation, prescribe.
6. Yes, if, for determinations of dependency made on or after October 5, 1994, and prior to the death of the member, the child had been placed in the home of the member or former member by a placement agency (recognized by the Secretary of Defense) or by another source authorized by State or local law to provide adoption placement, in anticipation of the legal adoption.
7. Yes, if the child:
a. Has not attained the age of 23, is enrolled in a full-time course of study at an institution of higher learning approved by the administering Secretary, and is or was at the time of the member's or former member's death dependent on the former member for over 50 percent of the child's support; or
b. Is incapable of self-support because of a mental or physical incapacity that existed before age 21, or occurred before the age of 23 while a full-time student, while a dependent of a member or former member and is, or was at the time of the member's or former member's death, dependent on the member or former member for over 50 percent of the child's support.
8. Yes, if the child:
a. Has not attained the age of 23, is enrolled in a full-time course of study at an institution of higher learning approved by the administering Secretary, and is, or was at the time of the member's death, dependent on the member for over 50 percent of the child's support.
b. Is incapable of self-support because of a mental or physical incapacity and is, or was at the time of the member's death, dependent on the member for over 50 percent of the child's support.

(d) Surviving dependents of deceased National Guard and Reserve members whose death is unrelated to the member's service. The surviving dependents of National Guard and Reserve members are eligible for the benefits shown in Table 19 to this subpart if:

(1) The member's death was unrelated to the member's service.

(2) The member was not on active duty, active duty for training, or on inactive duty training, or while traveling to or from the place at which the member was to perform, or performed, such active duty, active duty for training, or inactive duty training.

(3) The member was not eligible for retired pay.

Table 19 to Subpart C of Part 161—Benefits for Surviving Dependents of National Guard and Reserve Members Whose Death Was Unrelated to the Member's Service
| CHC | DC | C | MWR | E
Widow or Widower:
Unremarried | No | No | Yes | Yes | Yes.
Remarried | No | No | No | No | No.
Unmarried | No | No | Yes | Yes | Yes.
Children, Unmarried, Under 21 Years (Including Orphans):
Legitimate, adopted, stepchild, illegitimate child of record of female member, or illegitimate child of male member whose paternity has been judicially determined or voluntarily acknowledged, foster child | No | No | 1 | 1 | 1.
Ward | No | No | 2 | 2 | 2.
Pre-adoptive Child | No | No | 3 | 3 | 3.
Children, Unmarried, 21 Years and Over | No | No | 4 | 4 | 4.
Parent, Parent-in-Law, Stepparent, or Parent by Adoption | No | No | 5 | 5 | 5.
Notes:
1. Yes, if dependent on an authorized sponsor for over 50 percent of the child's support at the time of the sponsor's death.
2. Yes, if, for determinations of dependency made on or after July 1, 1994, and prior to the death of the member, the child had been placed in the legal custody of the member as a result of a court of competent jurisdiction in the United States (or possession of the United States) for a period of at least 12 consecutive months and was at the time of the sponsor's death:
a. Dependent on the member for over 50 percent support.
b. Residing with the member unless separated by the necessity of uniformed service or to receive institutional care as a result of a disability or incapacitation or under such other circumstances as the administering Secretary may, by regulation, prescribe.
3. Yes, if, for determinations of dependency made on or after October 5, 1994, and prior to the death of the member, the child had been placed in the home of the member by a placement agency (recognized by the Secretary of Defense) or by another source authorized by State or local law to provide adoption placement, in anticipation of the legal adoption.
4. Yes, if the child:
a. Has not attained the age of 23, is enrolled in a full-time course of study at an institution of higher learning approved by the administering Secretary, and is, or was at the time of the member's death, dependent on the member for over 50 percent of the child's support.
b. Is incapable of self-support because of a mental or physical incapacity and is, or was at the time of the member's death, dependent on the member for over 50 percent of the child's support.
5. Yes, if dependent on that sponsor for over 50 percent of the child's support and residing in the sponsor's household at the time of the sponsor's death.

(e) Surviving dependents of deceased uniformed services retirees or deceased MOH recipients. The surviving dependents of deceased uniformed services retirees or deceased MOH recipients are eligible for the benefits shown in Table 20 to this subpart.

Table 20 to Subpart C of Part 161—Benefits for Surviving Dependents of Deceased Uniformed Services Retirees and Deceased MOH Recipients
| CHC | DC | C | MWR | E
Widow or Widower:
Unremarried | 1, 2 | 2, 4 | Yes | Yes | Yes.
Remarried | No | No | No | No | No.
Unmarried | No | No | Yes | Yes | Yes.
Children, Unmarried, Under 21 Years:
Legitimate, adopted, stepchild, illegitimate child of member, illegitimate child of spouse | 1, 2 | 2, 4 | 4 | 3 | 3.
Ward | 1, 2, 6 | 2, 3, 6 | 6 | 6 | 6.
Pre-adoptive Child | 1, 2, 7 | 2, 3, 7 | 7 | 7 | 7.
Foster Child | No | No | 3 | 3 | 3.
Children, Unmarried, 21 Years and Over | 1, 2, 8 | 2, 8 | 9 | 9 | 9.
Parent, Parent-in-Law, Stepparent, or Parent-by-Adoption | No | No | 5 | 5 | 5.
Notes:
1. Yes, if the:
a. Deceased uniformed service member was a retired uniformed service member entitled to retired pay, including TDRL or PDRL, or a non-regular Service retiree, age 60 or over, in receipt of retired pay, and if the person is:
(1) Not entitled to Medicare Part A hospital insurance through the SSA; or,
(2) Entitled to Medicare Part A hospital insurance and enrolled in Medicare Part B medical insurance or qualified as an exception in accordance with section 706 of Public Law 111-84.
b. Deceased MOH recipient was not otherwise entitled to medical care as of, or after October 30, 2000 in accordance with section 706 of Public Law 106-398 and if the person is:
(1) Not entitled to Medicare Part A hospital insurance through the SSA; or,
(2) Entitled to Medicare Part A, hospital insurance and enrolled in Medicare Part B medical insurance or qualified as an exception in accordance with section 706 of Public Law 111-84.
2. No, if the deceased uniformed service member was a non-regular Service Retiree in accordance with the provision of 10 U.S.C. 12731 after the enactment of Public Law 110-181, sections 647 and 1106. The eligible surviving dependents will become eligible for CHC and DC on the anniversary of the 60th birthday of the deceased uniformed service member. Eligibility for CHC also requires that the person is:
a. Not entitled to Medicare Part A hospital insurance through the SSA; or,
b. Entitled to Medicare Part A hospital insurance and enrolled in Medicare Part B medical insurance or qualified as an exception in accordance with section 706 of Public Law 111-84.
3. Yes, if dependent on an authorized sponsor for over 50 percent of the individual's support at the time of the sponsor's death.
4. Yes, if the deceased was a retired uniformed services member entitled to retired pay, including TDRL or PDRL, or a non-regular Service retiree, age 60 or over, in receipt of retired pay, or a deceased MOH recipient not otherwise entitled to medical care as of or after, October 30, 2000, or a deceased non-regular Service retiree entitled in accordance with the provisions of 10 U.S.C. 12731 after the enactment of Public Law 110-181, sections 647 and 1106 on the anniversary of the 60th birthday of the deceased uniformed Service member.
5. Yes, if dependent on an authorized sponsor for over 50 percent of the individual's support and residing in the sponsor's household at the time of the sponsor's death.
6. Yes, if, for determinations of dependency made on or after July 1, 1994, and prior to the death of the member, the child had been placed in the legal custody of the member or former member as a result of a court of competent jurisdiction in the United States (or possession of the United States) for a period of at least 12 consecutive months; and was at the time of the sponsor's death:
a. Dependent on the member for over 50 percent support.
b. Residing with the member or former member unless separated by the necessity of uniformed service or to receive institutional care as a result of a disability or incapacitation or under such other circumstances as the administering Secretary may, by regulation, prescribe.
7. Yes, if, for determinations of dependency made on or after October 5, 1994, and prior to the death of the member, the child had been placed in the home of the member or former member by a placement agency (recognized by the Secretary of Defense) or by another source authorized by State or local law to provide adoption placement, in anticipation of the legal adoption.
8. Yes, if the child:
a. Has not attained the age of 23, is enrolled in a full-time course of study at an institution of higher learning approved by the administering Secretary, and is or was at the time of the member's or former member's death dependent on the former member for over 50 percent of the child's support; or
b. Is incapable of self-support because of a mental or physical incapacity that existed before age 21, or occurred before the age of 23 while a full-time student, while a dependent of a member or former member and is or was at the time of the member's or former member's death dependent on the member or former member for over 50 percent of the child's support.
9. Yes, if the child:
a. Has not attained the age of 23, is enrolled in a full-time course of study at an institution of higher learning approved by the administering Secretary, and is, or was at the time of the member's death, dependent on the member for over 50 percent of the child's support.
b. Is incapable of self-support because of a mental or physical incapacity and is, or was at the time of the member's death, dependent on the member for over 50 percent of the child's support.

(f) Surviving dependents of 100 percent DAVs. Surviving dependents of honorably discharged veterans rated as 100 percent disabled or incapable of pursuing substantially gainful employment by the VA from a service-connected injury or disease at the time of the veteran's death are eligible for benefits as shown in Table 21 to this subpart.

Table 21 to Subpart C of Part 161—Benefits for Surviving Dependents of 100 Percent DAVs
| CHC | DC | C | MWR | E
Widow or Widower (DoD Beneficiary):
Unremarried | No | No | Yes | Yes | Yes.
Remarried | No | No | No | No | No.
Unmarried | No | No | Yes | Yes | Yes.
Children, Unmarried, Under 21 Years:
Legitimate, adopted, stepchild, illegitimate child of record of female member, or illegitimate child of male member whose paternity has been judicially determined or voluntarily acknowledged, foster child | No | No | 1 | 1 | 1.
Ward | No | No | 2 | 2 | 2.
Pre-adoptive Child | No | No | 3 | 3 | 3.
Children, Unmarried, 21 Years and Over | No | No | 4 | 4 | 4.
Parent, Parent-in-Law, Stepparent, or Parent-by-Adoption | No | No | 5 | 5 | 5.
Notes:
1. Yes, if dependent on an authorized sponsor for over 50 percent of the child's support at the time of the sponsor's death.
2. Yes, if, for determination of dependency made on or after July 1, 1994, was placed in the legal custody of the member or former member as a result of a court of competent jurisdiction in the United States (or possession of the United States) for a period of at least 12 consecutive months; and was at the time of the sponsor's death:
a. Dependent on the member for over 50 percent support.
b. Residing with the member or former member unless separated by the necessity of uniformed service or to receive institutional care as a result of a disability or incapacitation or under such other circumstances as the administering Secretary may, by regulation, prescribe.
3. Yes, if, for determinations of dependency made on or after July 1, 1994, and prior to the death of the member, the child had been placed in the home of the member or former member by a placement agency (recognized by the Secretary of Defense) or by another source authorized by State or local law to provide adoption placement, in anticipation of the legal adoption.
4. Yes, if the child:
a. Has not attained the age of 23, is enrolled in a full-time course of study at an institution of higher learning approved by the administering Secretary, and is or was at the time of the member's or former member's death, dependent on the former member for over 50 percent of the child's support; or
b. Is incapable of self-support because of a mental or physical incapacity that existed before age 21, or occurred before the age of 23 while a full-time student, while a dependent of a member or former member and is, or was at the time of the member's or former member's death, dependent on the member or former member for over 50 percent of the child's support.
5. Yes, if dependent on that sponsor for over 50 percent of the parent's support and residing in the sponsor's household at the time of the sponsor's death.

§ 161.18 Benefits for abused dependents.

(a) Abused dependents of active duty uniformed services members entitled to retired pay based on 20 or more years of service who, on or after October, 23, 1992, while a member, have their eligibility to receive retired pay terminated as a result of misconduct involving the abuse of the spouse or dependent child pursuant to 10 U.S.C. 1408(h), are eligible for benefits as shown in Table 22 to this subpart. For the purposes of these benefits the eligible spouse or child may not reside in the household of the sponsor. See § 161.19 for additional information on abused dependents under the 10/20/10 former spouse rule.

Table 22 to Subpart C of Part 161—Benefits for Abused Dependents of Retirement Eligible Uniformed Services Members
| CHC | DC | C | MWR | E
Lawful Spouse | 1, 2, 6 | 2, 6 | Yes | Yes | Yes.
Children, Unmarried, Under 18 Years:
Legitimate, adopted, stepchild, pre-adoptive | 1, 3 | 3 | 4 | 4 | 4.
Children, Unmarried, 18 Years and Over:
(If entitled above) | 1, 4, 5 | 4, 5 | 7 | 7 | 7.
Notes:
1. Yes, if:
a. Not entitled to Medicare Part A hospital insurance through the SSA.
b. Entitled to Medicare Part A hospital insurance and enrolled in Medicare Part B medical insurance or qualified as an exception in accordance with section 706 of Public Law 111-84.
2. Yes, if a court order provides for an annuity for the spouse.
3. Yes, if a member of the household where the abuse occurred.
4. Yes, if dependent on an authorized sponsor for over 50 percent of child's support at the time the abuse occurred.
5. Yes, if the child:
a. Is older than 18 years old and is enrolled in a full-time course of study at an institution of higher learning approved by the administering Secretary; or
b. Is incapable of self-support because of a mental or physical incapacity that existed before age 18, or occurred before the age of 23 while a full-time student.
6. The spouse must have been married to the uniformed service member for at least 10 years, the uniformed service member must have completed 20 creditable years for retired pay, and they must have been married at least 10 years during the 20 years of creditable service (see § 161.19). The uniformed services shall prescribe specific procedures to verify the eligibility of an applicant.
7. Yes, if the child:
a. Is older than 18 years old but has not attained the age of 23, is enrolled in a full-time course of study at an institution of higher learning approved by the administering Secretary, and was dependent on the sponsor for over 50 percent the child's support at the time the abuse occurred; or
b. Is incapable of self-support because of a mental or physical incapacity and was dependent on the sponsor for over 50 percent of the child's support at the time the abuse occurred.

(b) Dependents of active duty uniformed service members (who have served for a continuous period greater than 30 days) not entitled to retired pay who have received a dishonorable or bad-conduct discharge, dismissal from a uniformed service as a result of a court martial conviction for an offense involving physical or emotional abuse of the spouse or child, or was administratively discharged as a result of such an offense, separated on or after November 30, 1993, are eligible for transitional privileges in accordance with DoD Instruction 1342.24, “Transitional Compensation for Abused Dependents” (available at: http://www.dtic.mil/whs/directives/corres/pdf/134224p.pdf). For the purposes of these benefits the eligible spouse or child may not reside in the household of the sponsor. A maximum of up to 36 months of medical benefits can be granted by the uniformed services to the transitional compensation dependent.

Table 23 to Subpart C of Part 161—Benefits for Abused Dependents of Non-Retirement Eligible Uniformed Services Members
| CHC | DC | C | MWR | E
Lawful Spouse | 1, 2 | 2 | 4 | 4 | 4.
Children, Unmarried, Under 18 Years:
Legitimate, adopted, and stepchild | 1, 2 | 2 | 4 | 4 | 4.
Children, Unmarried, 18 Years and Over (If entitled above) | 1, 2, 3 | 2, 3 | 4 | 4 | 4.
Notes:
1. Yes, if:
a. Not entitled to Medicare Part A hospital insurance through the SSA.
b. Entitled to Medicare Part A hospital insurance and enrolled in Medicare Part B medical insurance or qualified as an exception in accordance with section 706 of Public Law 111-84.
2. Yes, if
a. Residing with the member at the time of the dependent-abuse offense and not residing with the member while receiving transitional compensation for abused dependents.
b. Married to and residing with the member at the time of the dependent-abuse offense and while receiving transitional compensation for abused dependents.
3. Yes, if:
a. 18 years of age or older and incapable of self-support because of a mental or physical incapacity that existed before the age of 18 and who is (or was when a punitive or other adverse action was carried out on the member) dependent on the member for over one-half of the child's support; or
b. 18 years of age or older, but less than 23 years of age, is enrolled in a full-time course of study in an institution of higher learning approved by the Secretary of Defense and who is (or was when a punitive or other adverse action was carried out on the member) dependent on the member for over one-half of the child's support.
4. Yes, if receiving transitional compensation.

§ 161.19 Benefits for former spouses.

(a) 20/20/20 former spouses. Unremarried former spouses of a uniformed services member or retired member, married to the member or retired member for a period of at least 20 years, during which period the member or retired member performed at least 20 years of service that is creditable in determining the member's or retired member's eligibility for retired or retainer pay, or equivalent pay pursuant to 10 U.S.C. 1408 and 1072(2)(F), and the period of the marriage and the service overlapped by at least 20 years are eligible for benefits as shown in Tables 24 and 25 to this subpart. The benefit eligibility period begins on qualifying date of divorce from the uniformed services member.

(1) 20/20/20 former spouses of an active duty, regular retired, or a non-regular retired sponsor at age 60. 20/20/20 former spouses of an active duty, regular retired, or a non-regular retired sponsor at age 60 are eligible for benefits as shown in Table 24 to this subpart.

Table 24 to Subpart C of Part 161—Benefits for 20/20/20 Former Spouses of Active Duty, Regular Retired, and Non-Regular Retired Members at Age 60
| CHC | DC | C | MWR | E
Former Spouse:
Unremarried | 1, 2 | 1 | Yes | Yes | Yes.
Remarried | No | No | No | No | No.
Unmarried | No | No | Yes | Yes | Yes.
Notes:
1. Yes, if the former spouse certifies in writing that the former spouse has no medical coverage under an employer-sponsored health plan.
2. Yes, if:
a. Not entitled to Medicare Part A hospital insurance through the SSA.
b. Entitled to Medicare Part A hospital insurance and enrolled in Medicare Part B medical insurance with the exception of those individuals who qualify in accordance with section 706 of Public Law 111-84.

(2) 20/20/20 former spouses of a National Guard, Reserve member, or Retired Reserve member under age 60. (i) In the case of former spouses of National Guard, Reserve, or Retired Reserve members or former members who are entitled to retired pay at age 60, but have not yet reached age 60, the former spouse is only entitled to commissary, MWR, and exchange benefits as shown in Table 25 to this subpart. When the Retired Reserve member or former member attains or would have attained, age 60, the former spouse will be entitled to benefits as shown in Table 24 to this subpart.

(ii) In the case of former spouses of National Guard members or Reserve members ordered to active duty, or Retired Reserve members under age 60 recalled to active duty, they continue to receive benefits as shown in Table 25 to this subpart if the orders are for a period of 30 days or less. If the National Guard member, Reserve member, or recalled Retired Reserve member is on active duty orders in excess of 30 days, the former spouse will receive benefits as shown in Table 24 to this subpart.

Table 25 to Subpart C of Part 161—Benefits for 20/20/20 Former Spouses for Retired Reserve Under Age 60
| CHC | DC | C | MWR | E
Former Spouse:
Unremarried | No | No | Yes | Yes | Yes.
Remarried | No | No | No | No | No.
Unmarried | No | No | Yes | Yes | Yes.

(b) 20/20/15 former spouses. Unremarried former spouses described in paragraph (a)(1) of this section, with the period of overlap of marriage and the member's creditable service at least 15 years, but less than 20 years, are not eligible for the commissary, MWR, or exchange benefits.

(1) 20/20/15 former spouses of an active duty, regular retired, or a non-regular retired sponsor at age 60. 20/20/15 former spouses of an active duty, regular retired, or a non-regular retired sponsor at age 60 are eligible for benefits as shown in Table 26 to this subpart.

Table 26 to Subpart C of Part 161—Benefits for 20/20/15 Former Spouses of Active Duty, Regular Retired, and Non-Regular Retired at Age 60
| CHC | DC | C | MWR | E
Former Spouse:
Unremarried | 1, 2, 3 | 1, 3 | No | No | No.
Remarried | No | No | No | No | No.
Unmarried | No | No | No | No | No.
Notes:
1. Yes, if former spouse certifies in writing that the former spouse has no medical coverage under an employer-sponsored health plan.
2. Yes, if:
a. Not entitled to Medicare Part A hospital insurance through the SSA; or
b. Entitled to Medicare Part A hospital insurance and enrolled in Medicare Part B medical insurance or qualified as an exception in accordance with section 706 of Public Law 111-84.
3. Yes, if the:
a. Final decree of divorce, dissolution, or annulment of the marriage was before April 1, 1985; or
b. Marriage ended on, or after, September 29, 1988, entitlements shall exist for 1 year, beginning on the date of the divorce, dissolution, or annulment pursuant to 10 U.S.C. 1076 and 1072(2)(H).

(2) 20/20/15 former spouses of a Retired Reserve member under age 60. (i) In the case of former spouses of Retired Reserve members or former members who are entitled to retired pay at age 60, but have not yet reached age 60, the former spouse has no entitlement prior to the Retired Reserve member or former member reaching age 60. The benefit eligible period is 1 year from the date of divorce. If any period of eligibility extends beyond the Retired Reserve or former member's 60th birthday then the former spouse will receive benefits as shown in Table 26 to this subpart for that period.

(ii) In the case of former spouses of Reserve members or Retired Reserve members under age 60 recalled to active duty on orders for a period of 30 days or less they are not entitled to any benefits as shown in Table 27 to this subpart. If the Reserve member or recalled Retired Reserve member is on active duty orders in excess of 30 days, the former spouse will receive benefits as shown in Table 26 to this subpart if they are within 1 year from the date of divorce from the uniformed service member.

Table 27 to Subpart C of Part 161—Benefits for 20/20/15 Former Spouses of a Retired Reserve Member Under Age 60
| CHC | DC | C | MWR | E
Former Spouse:
Unremarried | No | No | No | No | No.
Remarried | No | No | No | No | No.
Unmarried | No | No | No | No | No.

(c) 10/20/10 former spouses. Unremarried former spouses of a member or retired member, married to the member or retired member for a period of at least 10 years to a member or retired member who performed at least 20 years of service that is creditable in determining the member's or retired member's eligibility for retired or retainer pay, when the period of overlap of marriage and the member's creditable service was at least 10 years and the former spouse is in receipt of an annuity as a result of the member being separated from the service due to misconduct involving dependent abuse pursuant to 10 U.S.C. 1408(h), are eligible for benefits as shown in Table 28 to this subpart.

Table 28 to Subpart C of Part 161—Benefits for 10/20/10 Former Spouses
| CHC | DC | C | MWR | E
Former Spouse:
Unremarried | 1, 2 | 1, 2 | Yes | Yes | Yes.
Remarried | No | No | No | No | No.
Unmarried | 1, 2 | 1, 2 | Yes | Yes | Yes.
Notes:
1. Yes, if:
a. Not entitled to Medicare Part A hospital insurance through the SSA.
b. Entitled to Medicare Part A hospital insurance and enrolled in Medicare Part B medical insurance or qualified as an exception in accordance with section 706 of Public Law 111-84.
2. The spouse must have been married to the uniformed service member for at least 10 years, the uniformed service member must have completed 20 creditable years for retired pay, and they must have been married at least 10 years during the 20 years of creditable service (see § 161.18, paragraph (a)(1)). The uniformed services shall prescribe specific procedures to verify the eligibility of an applicant.

§ 161.20 Benefits for civilian personnel.

Civilian personnel may be eligible for certain benefits described in this section based on their affiliation with DoD, Service-specific guidelines, or other authorizing conditions. The definition of “civilian personnel” (e.g., civilian employee, DoD contractor, Red Cross employee) is specific to each benefit set described.

(a) Civilian personnel in the United States may be issued a DoD ID card as a condition of employment or assignment in accordance with subpart B of this part. Civilian personnel in the United States are eligible for benefits as shown in Table 29 to this subpart.

Table 29 to Subpart C of Part 161—Benefits for Civilian Personnel in the United States
| CHC | DC | C | MWR | E
Self:
DoD Civilian Employees, IPA Personnel | No | No | No | 1 | No.
Non-DoD Civilian Employees | No | No | No | 2 | No.
DoD Contractors | No | No | No | 2 | No.
Notes:
1. Yes, but benefit is not printed on the DoD ID card and will be facilitated in accordance with DoD Instruction 1015.10.
2. Yes, if working full-time on the installation in accordance with DoD Instruction 1015.10. Benefit is not printed on the DoD ID card and will be facilitated in accordance with DoD Instruction 1015.10.

(b) Civilian personnel residing on a military installation in the United States are eligible for benefits as shown in Table 30 to this subpart.

Table 30 to Subpart C of Part 161—Benefits for Civilian Personnel When Residing on a Military Installation in the United States
| CHC | DC | C | MWR | E
Self:
DoD Civilian Employees, IPA Personnel | No | No | No | 1 | 2.
Notes:
1. Yes, but benefit is not printed on the DoD ID card and will be facilitated in accordance with DoD Instruction 1015.10.
2. Yes, but subject to purchase restrictions, in accordance with DoD Instruction 1330.21. Benefit is not printed on the DoD ID card and will be facilitated in accordance with DoD Instruction 1330.21.

(c) DoD civilian personnel stationed or employed outside the United States and outside U.S. Territories and Possessions, and their accompanying dependents, when residing in the same household, are eligible for benefits as shown in Table 31 to this subpart.

Table 31 to Subpart C of Part 161—Benefits for DoD Civilian Personnel Stationed Outside the United States and Outside U.S. Territories and Possessions and Accompanying Dependents
| CHC | DC | C | MWR | E
Self:
DoD Civilian Employee, IPA Personnel | No | 1 | Yes | Yes | Yes.
DoD Contractor | No | 1 | 2 | Yes | 3.
Lawful Spouse | No | 1 | 4 | Yes | 4.
Children, Unmarried, Under 21 Years:
Legitimate, adopted, stepchild, Illegitimate child of employee, or Illegitimate child of spouse | No | 1, 5 | 5 | 5 | 5.
Ward | No | 1, 6 | 6 | 6 | 6.
Pre-adoptive | No | 1, 7 | 7 | 7 | 7.
Foster Child | No | No | 5 | 5 | 5.
Children, Unmarried, 21 Years and Over | No | 1, 8 | 9 | 9 | 9.
Parent, Parent-in-Law, Stepparent, or Parent-by-Adoption | No | 1, 5 | 1, 5 | 5 | 5.
Notes:
1. Yes, on a space-available, fully reimbursable basis. Medical care at uniformed services facilities shall be rendered in accordance with Service instructions. Additional guidelines are contained in DoD Instruction 1100.22 and Volume 1231 of DoD Instruction 1400.25.
2. Yes, if a U.S. citizen and on a fully-reimbursable basis in accordance with DoD Instruction 1330.17 (not a local hire).
3. Yes, if a U.S. citizen assigned overseas (not a local hire).
4. Yes, if a dependent of an authorized sponsor and residing in the sponsor's household.
5. Yes, if dependent on an authorized sponsor for over 50 percent of the child's support and residing in the sponsor's household.
6. Yes, if, for determination of dependency made on or after July 1, 1994, placed in the legal custody of the sponsor as a result of a court of competent jurisdiction in the United States (or possession of the United States) for a period of at least 12 consecutive months, and if dependent on the sponsor for over 50 percent of the child's support, and residing in the sponsor's household.
7. Yes, if, for determinations of dependency made on or after October 5, 1994, placed in the home of the sponsor by a placement agency (recognized by the Secretary of Defense) or by another source authorized by State or local law to provide adoption placement, in anticipation of the legal adoption by the sponsor.
8. Yes, if the child:
a. Has not attained the age of 23, is enrolled in a full-time course of study at an institution of higher learning approved by the administering Secretary, and is dependent on the sponsor for over 50 percent of the child's support; or
b. Is incapable of self-support because of a mental or physical incapacity that existed before age 21, or occurred before the age of 23 while a full-time student, while a dependent of a sponsor and is, dependent on the sponsor for over 50 percent of the child's support.
9. Yes, if the child:
a. Has not attained the age of 23, is enrolled in a full-time course of study at an institution of higher learning approved by the administering Secretary, and is dependent on the sponsor for over 50 percent of the child's support; or
b. Is incapable of self-support because of a mental or physical incapacity, and is dependent on the sponsor for over 50 percent of the child's support.

(d) Non-DoD Government agency civilian personnel stationed or employed outside the United States and outside U.S. territories and possessions, and their dependents, when residing in the same household, are eligible for benefits as shown in Table 32 to this subpart.

Table 32 to Subpart C of Part 161—Benefits for Non-DoD Government Agencies Civilian Personnel Stationed or Employed Outside the United States and Outside U.S. Territories and Possessions and Accompanying Dependents
| CHC | DC | C | MWR | E
Self:
Non-DoD Civilian Personnel | No | 1 | 2 | Yes | 2.
Lawful Spouse | No | 1 | 3 | Yes | 3.
Children, Unmarried, Under 21 Years:
Legitimate, adopted, stepchild, Illegitimate child of employee, or Illegitimate child of spouse | No | 1, 4 | 4 | 4 | 4.
Ward | No | 1, 5 | 5 | 5 | 5.
Pre-adoptive | No | 1, 6 | 6 | 6 | 6.
Foster Child | No | No | 4 | 4 | 4.
Children, Unmarried, 21 Years and Over | No | 1, 7 | 8 | 8 | 8.
Parent, Parent-in-Law, Stepparent, Parent-by-Adoption | No | 1, 4 | 4 | 4 | 4.
Notes:
1. Yes, on a space-available, fully reimbursable basis. Medical care at uniformed services facilities shall be rendered in accordance with Service instructions. Additional guidelines are contained in DoD Instruction 1100.22 and Volume 1231 of DoD Instruction 1400.25.
2. Yes, excluding local hires in accordance with DoD Instruction 1330.17 and DoD Instruction 1330.21.
3. Yes, if a dependent of an authorized sponsor and residing in the sponsor's household.
4. Yes, if dependent on an authorized sponsor for over 50 percent of the individual's support and residing in the sponsor's household.
5. Yes, if, for determination of dependency made on or after July 1, 1994, placed in the legal custody of the sponsor as a result of a court of competent jurisdiction in the United States (or possession of the United States) for a period of at least 12 consecutive months, and if dependent on the sponsor for over 50 percent of the dependent's support, and residing in the sponsor's household.
6. Yes, if, for determinations of dependency made on or after October 5, 1994, placed in the home of the sponsor by a placement agency (recognized by the Secretary of Defense) or by another source authorized by State or local law to provide adoption placement, in anticipation of the legal adoption by the sponsor.
7. Yes, if the child:
a. Has not attained the age of 23, is enrolled in a full-time course of study at an institution of higher learning approved by the administering Secretary, and is dependent on the sponsor for over 50 percent of the child's support; or
b. Is incapable of self-support because of a mental or physical incapacity that existed before age 21, or occurred before the age of 23 while a full-time student, while a dependent of a sponsor and is, dependent on the member or former member for over 50 percent of the child's support.
8. Yes, if the child:
a. Has not attained the age of 23, is enrolled in a full-time course of study at an institution of higher learning approved by the administering Secretary, and is dependent on the sponsor for over 50 percent of the child's support; or
b. Is incapable of self-support because of a mental or physical incapacity, and is dependent on the sponsor for over 50 percent of the child's support.

(e) Civilian personnel stationed or employed in U.S. Territories and Possessions and their dependents, when residing in the same household, are eligible for benefits as shown in Table 33 to this subpart.

Table 33 to Subpart C of Part 161—Benefits for Civilian Personnel Stationed or Employed in U.S. Territories and Possessions and Accompanying Dependents
| CHC | DC | C | MWR | E
Self:
DoD Civilian employee, IPA personnel | No | 1 | 2 | Yes | 2.
Non-DoD Civilian employee; DoD contractor | No | 1 | No | 3 | No.
Lawful Spouse | No | 1 | 4 | 4 | 4.
Children, Unmarried, Under 21 Years:
Legitimate, adopted, stepchild, Illegitimate child of employee or illegitimate child of spouse | No | 1, 5 | 5 | 5 | 5.
Ward | No | 1, 6 | 6 | 6 | 6.
Pre-adoptive | No | 1, 7 | 7 | 7 | 7.
Foster Child | No | No | 5 | 5 | 5.
Children, Unmarried, 21 Years and Over | No | 1, 8 | 9 | 9 | 9.
Parent, Parent -in-Law, Stepparent, Parent-by-Adoption | No | 1, 5 | No | 5 | 5.
Notes:
1. Yes, on a space-available, fully reimbursable basis only if residing in a household on a military installation. Additional guidelines are contained in DoD Instruction 1100.22 and Volume 1231 of DoD Instruction 1400.25.
2. Yes, excluding local hires in accordance with DoD Instruction 1330.17 and DoD Instruction 1330.21.
3. Yes, if working full-time on the installation in accordance with DoD Instruction 1015.10. Benefit will not be printed on the DoD ID card and will be facilitated in accordance with DoD Instruction 1015.10.
4. Yes, if a dependent of an authorized sponsor and residing in the sponsor's household.
5. Yes, if dependent on an authorized sponsor for over 50 percent of the individual's support and residing in the sponsor's household.
6. Yes, if, for determination of dependency made on or after July 1, 1994, placed in the legal custody of the sponsor as a result of a court of competent jurisdiction in the United States (or possession of the United States) for a period of at least 12 consecutive months, and if dependent on the sponsor for over 50 percent of the child's support, and residing in the sponsor's household.
7. Yes, if, for determinations of dependency made on or after October 5, 1994, placed in the home of the sponsor by a placement agency (recognized by the Secretary of Defense) or by another source authorized by State or local law to provide adoption placement, in anticipation of the legal adoption by the sponsor.
8. Yes, if the child:
a. Has not attained the age of 23, is enrolled in a full-time course of study at an institution of higher learning approved by the administering Secretary, and is dependent on the sponsor for over 50 percent of the child's support; or
b. Is incapable of self-support because of a mental or physical incapacity that existed before age 21, or occurred before the age of 23 while a full-time student, while a dependent of a sponsor, and is dependent on the sponsor for over 50 percent of the child's support.
9. Yes, if the child:
a. Has not attained the age of 23, is enrolled in a full-time course of study at an institution of higher learning approved by the administering Secretary, and is dependent on the sponsor for over 50 percent of the child's support; or
b. Is incapable of self-support because of a mental or physical incapacity, and is dependent on the sponsor for over 50 percent of the child's support.

(f) DoD OCONUS hires are foreign nationals in host countries who are employed by U.S. forces, consistent with any agreement with the host country as defined in Volume 1231 of DoD Instruction 1400.25. They are entered into DEERS for the purposes of issuing a CAC and are eligible for benefits as shown in Table 34 to this subpart.

Table 34 to Subpart C of Part 161—Benefits for DoD OCONUS Hires
| CHC | DC | C | MWR | E
Self | No | No | No | 1 | No.
Note:
1. Yes, for appropriated fund and NAF foreign national employees assigned and working directly for DoD installations overseas, if not prohibited by Status of Forces Agreements, other international agreements, or local laws, and the installation commander determines it is in the best interest of the command. Annual recertification of the employee authorization is required in accordance with DoD Instruction 1015.10. Benefit is not printed on the DoD ID card and will be facilitated in accordance with DoD Instruction 1015.10.

(g) Full-time paid personnel of the Red Cross assigned to duty with the uniformed services in the United States and residing on a military installation and their accompanying dependents, when residing in the same household are eligible for benefits as shown in Table 35 to this subpart.

Table 35 to Subpart C of Part 161—Benefits for Full-Time Paid Personnel of the Red Cross Assigned to Duty With the Uniformed Services in the United States and Residing on a Military Installation and Accompanying Dependents
| CHC | DC | C | MWR | E
Self | No | No | No | Yes | 1.
Lawful Spouse | No | No | No | Yes | 1, 2.
Children, Unmarried, Under 21 Years:
Legitimate, adopted, stepchild, Illegitimate child of employee, illegitimate child of spouse, or foster child | No | No | No | 3 | 1, 3.
Ward | No | No | No | 4 | 1, 4.
Pre-adoptive | No | No | No | 5 | 1, 5.
Children, Unmarried, 21 Years and Over | No | No | No | 6 | 1, 6.
Parent, Parent-in-Law, Stepparent, Parent-by-Adoption | No | No | No | 3 | 1, 3.
Notes:
1. Yes, but subject to purchase restrictions in accordance with DoDI 1330.21.
2. Yes, if a dependent of an authorized sponsor, and residing in the sponsor's household.
3. Yes, if dependent on an authorized sponsor for over 50 percent of the individual's support and residing in the sponsor's household.
4. Yes, if, for determination of dependency made on or after July 1, 1994, placed in the legal custody of the sponsor as a result of a court of competent jurisdiction in the United States (or possession of the United States) for a period of at least 12 consecutive months, and if dependent on the sponsor for over 50 percent of the child's support, and residing in the sponsor's household.
5. Yes, if, for determinations of dependency made on or after October 5, 1994, placed in the home of the sponsor by a placement agency (recognized by the Secretary of Defense) or by another source authorized by State or local law to provide adoption placement, in anticipation of the legal adoption by the sponsor.
6. Yes, if the child:
a. Has not attained the age of 23, is enrolled in a full-time course of study at an institution of higher learning approved by the administering Secretary, and is dependent on the sponsor for over 50 percent of the child's support; or
b. Is incapable of self-support because of a mental or physical incapacity that existed before age 21, or occurred before the age of 23 while a full-time student, while a dependent of a sponsor, and is dependent on the sponsor for over 50 percent of the child's support.

(h) Full-time paid personnel of the Red Cross assigned to duty with the uniformed services outside the United States and their accompanying dependents, when residing in the same household, are eligible for benefits as shown in Table 36 to this subpart.

Table 36 to Subpart C of Part 161—Benefits for Full-Time Paid Personnel of the Red Cross Assigned to Duty With the Uniformed Services Outside the United States and Accompanying Dependents
| CHC | DC | C | MWR | E
Self | No | 1 | 2 | Yes | 2.
Lawful Spouse | No | 1 | 3 | Yes | 3.
Children, Unmarried, Under 21 Years:
Legitimate, adopted, stepchild, Illegitimate child of employee or illegitimate child of spouse | No | 1, 4 | 4 | 4 | 4.
Ward | No | No | 5 | 5 | 5.
Foster Child | No | No | 4 | 4 | 4.
Children, Unmarried, 21 Years and Over | No | 1, 6 | 7 | 7 | 7.
Parent, Parent-in-Law, Stepparent, or Parent-by-Adoption | No | 1, 4 | 4 | 4 | 4.
Notes:
1. Yes, on a space-available basis at rates specified in uniformed services instructions. Additional guidelines are contained in DoD Instruction 1100.22 and Volume 1231 of DoD Instruction 1400.25.
2. Yes, if U.S. citizen assigned overseas (not a local hire).
3. Yes, if a dependent of an authorized sponsor and residing in the sponsor's household.
4. Yes, if a dependent on an authorized sponsor for over 50 percent of the individual's support and residing in the sponsor's household.
5. Yes, if, for determination of dependency made on or after July 1, 1994, placed in the legal custody of the sponsor as a result of a court of competent jurisdiction in the United States (or possession of the United States) for a period of at least 12 consecutive months, and if dependent on the sponsor for over 50 percent of the child's support, and residing in the sponsor's household.
6. Yes, if the child:
a. Has not attained the age of 23, is enrolled in a full-time course of study at an institution of higher learning approved by the administering Secretary, and is dependent on the sponsor for over 50 percent of the child's support; or
b. Is incapable of self-support because of a mental or physical incapacity that existed before age 21, or occurred before the age of 23 while a full-time student, while a dependent of a sponsor, and is dependent on the sponsor for over 50 percent of the child's support.
7. Yes, if the child:
a. Has not attained the age of 23, is enrolled in a full-time course of study at an institution of higher learning approved by the administering Secretary, and is dependent on the sponsor for over 50 percent of the child's support; or
b. Is incapable of self-support because of a mental or physical incapacity, and is dependent on the sponsor for over 50 percent of the child's support.

(i) Full-time paid personnel of the United Service Organizations (USO) serving outside the United States and their accompanying dependents when residing in the same household are eligible for benefits as shown in Table 37 to this subpart.

Table 37 to Subpart C of Part 161—Benefits for Full-Time Paid Personnel of the USO and Accompanying Dependents Serving Outside the United States
| CHC | DC | C | MWR | E
Self | No | 1 | 2 | Yes | 2.
Lawful Spouse | No | 1 | 3 | Yes | 3.
Children, Unmarried, Under 21 Years:
Legitimate, adopted, stepchild, illegitimate child of employee, or illegitimate child of spouse | No | 1, 4 | 4 | 4 | 4.
Ward | No | No | 5 | 5 | 5.
Foster child | No | No | 4 | 4 | 4.
Children, Unmarried, 21 Years and Over | No | 1, 5 | 7 | 7 | 7.
Parent, Parent-in-Law, Stepparent, or Parent-by-Adoption | No | 1, 4 | 4 | 4 | 4.
Notes:
1. Yes, on a space-available, fully reimbursable basis. Additional guidelines are contained in DoD Instruction 1100.22 and Volume 1231 of DoD Instruction 1400.25.
2. Yes, if U.S. citizens assigned overseas (not a local hire).
3. Yes, if a dependent of an authorized sponsor and residing in the sponsor's household.
4. Yes, if dependent on an authorized sponsor for over 50 percent of the individual's support and residing in the sponsor's household.
5. Yes, if, for determination of dependency made on or after July 1, 1994, placed in the legal custody of the sponsor as a result of a court of competent jurisdiction in the United States (or possession of the United States) for a period of at least 12 consecutive months, and if dependent on the sponsor for over 50 percent of the child's support, and residing in the sponsor's household.
6. Yes, if the child:
a. Has not attained the age of 23, is enrolled in a full-time course of study at an institution of higher learning approved by the administering Secretary, and is dependent on the member sponsor for over 50 percent of the child's support; or
b. Is incapable of self-support because of a mental or physical incapacity that existed before age 21, or occurred before the age of 23 while a full-time student, while a dependent of a sponsor, and is dependent on the sponsor for over 50 percent of the child's support.
7. Yes, if the child:
a. Has not attained the age of 23, is enrolled in a full-time course of study at an institution of higher learning approved by the administering Secretary, and is dependent on the sponsor for over 50 percent of the child's support; or
b. Is incapable of self-support because of a mental or physical incapacity, and is dependent on the sponsor for over 50 percent of the child's support.

(j) Full-time paid personnel of the USS serving outside the United States and outside U.S. territories and possessions, and their accompanying dependents, when residing in the same household, are eligible for benefits as shown in Table 38 to this subpart.

Table 38 to Subpart C of Part 161—Benefits for Full-Time Paid Personnel of the USS Serving Outside the United States and Outside U.S. Territories and Possessions and Accompanying Dependents
| CHC | DC | C | MWR | E
Self | No | 1 | No | Yes | No.
Lawful Spouse | No | 1 | No | Yes | No.
Children, Unmarried, Under 21 Years:
Legitimate, adopted, stepchild, illegitimate child of employee, or illegitimate child of spouse | No | 1, 2 | No | 2 | No.
Ward | No | No | No | 3 | No.
Foster Child | No | No | No | 2 | No.
Children, Unmarried, 21 Years and Over | No | 1, 4 | No | 5 | No.
Parent, Parent-in-Law, Stepparent, or Parent-by-Adoption | No | 1, 2 | No | 2 | No.
Notes:
1. Yes, on a space-available, fully reimbursable basis. Additional guidelines are contained in DoD Instruction 1100.22 and Volume 1231 of DoD Instruction 1400.25.
2. Yes, if dependent on an authorized sponsor for over 50 percent of the child's support and residing in the sponsor's household.
3. Yes, if, for determination of dependency made on or after July 1, 1994, placed in the legal custody of the sponsor as a result of a court of competent jurisdiction in the United States (or possession of the United States) for a period of at least 12 consecutive months, and if dependent on the sponsor for over 50 percent of the child's support, and residing in the sponsor's household.
4. Yes, if the child:
a. Has not attained the age of 23, is enrolled in a full-time course of study at an institution of higher learning approved by the administering Secretary, and is dependent on the sponsor for over 50 percent of the child's support; or
b. Is incapable of self-support because of a mental or physical incapacity that existed before age 21, or occurred before the age of 23 while a full-time student, while a dependent of a sponsor, and is dependent on the sponsor for over 50 percent of the child's support.
5. Yes, if the child:
a. Has not attained the age of 23, is enrolled in a full-time course of study at an institution of higher learning approved by the administering Secretary, and is dependent on the sponsor for over 50 percent of the child's support; or
b. Is incapable of self-support because of a mental or physical incapacity, and is dependent on the sponsor for over 50 percent of the child's support.

(k) MSC civil service Marine personnel deployed on MSC-owned and operated vessels outside the United States and outside U.S. territories and possessions are eligible for benefits as shown in Table 39 to this subpart.

Table 39 to Subpart C of Part 161—Benefits for MSC Personnel Deployed on MSC-Owned and Operated Vessels Outside the United States and Outside U.S. Territories and Possessions
| CHC | DC | C | MWR | E
Self | No | 1 | No | Yes | No.
Note:
1. Yes, on a space-available, fully reimbursable basis.

(l) Ship's officers and members of the crews of NOAA vessels are eligible for benefits in accordance with 33 U.S.C. 3074 as shown in Table 40 to this subpart. Ship's officers are not commissioned officers, but civilian employees of NOAA.

Table 40 to Subpart C of Part 161—Benefits for Ship's Officers and Members of the Crews of NOAA Vessels
[NOAA Wage Mariner Employees]
| CHC | DC | C | MWR | E
Self | No | No | Yes | Yes | Yes.
Lawful Spouse | No | No | Yes | Yes | Yes.
Children, Unmarried, Under 21 Years:
Legitimate, adopted, stepchild, Illegitimate child of employee, Illegitimate child of spouse, or Foster Child | No | No | 1 | 1 | 1.
Ward | No | No | 2 | 2 | 2.
Pre-adoptive | No | No | 3 | 3 | 3.
Children, Unmarried, 21 Years and Over | No | No | 4 | 4 | 4.
Parent, Parent-in-Law, Stepparent, Parent-by-Adoption | No | No | 1 | 1 | 1.
Notes:
1. Yes, if dependent on an authorized sponsor for over 50 percent of the individual's support and residing in the sponsor's household.
2. Yes if, for determination of dependency made on or after July 1, 1994, placed in the legal custody of the sponsor as a result of a court of competent jurisdiction in the United States (or possession of the United States) for a period of at least 12 consecutive months, and if dependent on the sponsor for over 50 percent of the child's support, and residing in the sponsor's household.
3. Yes if, for determinations of dependency made on or after October 5, 1994, placed in the home of the sponsor by a placement agency (recognized by the Secretary of Defense) or by another source authorized by State or local law to provide adoption placement, in anticipation of the legal adoption by the sponsor.
4. Yes, if the child:
a. Has not attained the age of 23, is enrolled in a full-time course of study at an institution of higher learning approved by the administering Secretary, and is dependent on the sponsor for over 50 percent of the child's support; or
b. Is incapable of self-support because of a mental or physical incapacity, and is dependent on the sponsor for over 50 percent of the child's support.

(m) Officers and crews of vessels, lighthouse keepers, and depot keepers of the former Lighthouse Service are eligible for benefits as shown in Table 41 to this subpart.

Table 41 to Subpart C of Part 161—Benefits for Officers and Crews of Vessels, Lighthouse Keepers, and Depot Keepers of the Former Lighthouse Service
| CHC | DC | C | MWR | E
Self | No | No | Yes | Yes | Yes.

(n) Presidential appointees who have been confirmed by the Senate (PASs) are eligible for benefits as shown in Table 42 to this subpart.

Table 42 to Subpart C of Part 161—Benefits for Presidential Appointees
| CHC | DC | C | MWR | E
Self PAS | No | 1 | 2 | Yes | 2.
Notes:
1. Designation for PASs and other designated civilian officials within the DoD and the Military Departments. This is a specific reimbursable care value at the interagency rate outside the National Capital Region.
2. Yes, if residing in quarters on DoD military installations.

(o) Contract surgeons overseas during the period of their contract are eligible for benefits as shown in Table 43 to this subpart.

Table 43 to Subpart C of Part 161—Benefits for Contract Surgeons Overseas
| CHC | DC | C | MWR | E
Self | No | No | No | 1 | 1.
Note:
1. Only during the period of their contract with the Surgeon General.

(p) State employees of the National Guard may be identified in DEERS for the purpose of issuing a CAC to access DoD networks. There are no benefits assigned and no dependent benefits are extended as shown in Table 44 to this subpart.

Table 44 to Subpart C of Part 161—Benefits for State Guard Employees
| CHC | DC | C | MWR | E
Self | No | No | No | No | No.

§ 161.21 Benefits for retired civilian personnel.

(a) Retired DoD civilian employees. Retired appropriated and non-appropriated fund employees of the DoD are eligible for benefits as shown in Table 45 to this subpart. The Under Secretary of Defense for Personnel and Readiness Memorandum, “Department of Defense Civilian Retiree Identification Cards,” authorized the issuance of a DoD ID card to this population.

Table 45 to Subpart C of Part 161—Benefits for Retired DoD Civilian Employees
| CHC | DC | C | MWR | E
Self | No | No | No | 1 | No.
Note:
1. Yes, but benefit is not printed on the DoD ID card and will be facilitated in accordance with DoD Instruction 1015.10.

(b) Retired NOAA Wage Mariner employees and their eligible dependents. Retired NOAA Wage Mariners (including retired ship's noncommissioned officers and members of the crews of NOAA vessels and its predecessors), and their dependents are eligible for benefits in accordance with 33 U.S.C. 3074 as shown in Table 46 to this subpart. Surviving dependents of deceased retired NOAA wage mariners remain eligible for benefits in accordance with governing policies as shown in Table 46 to this subpart.

Table 46 to Subpart C of Part 161—Benefits for Retired NOAA Wage Mariner Employees and Their Eligible Dependents
| CHC | DC | C | MWR | E
Self | No | No | Yes | Yes | Yes.
Lawful Spouse | No | No | Yes | Yes | Yes.
Children, Unmarried, Under 21 Years:
Legitimate, adopted, stepchild, illegitimate child of record of female member, illegitimate child of male member, whose paternity has been judicially determined, or foster child | No | No | 1 | 1 | 1.
Ward | No | No | 2 | 2 | 2.
Pre-adoptive Child | No | No | 3 | 3 | 3.
Children, Unmarried, 21 Years and Over | No | No | 4 | 4 | 4.
Notes:
1. Yes, if dependent on an authorized sponsor for over 50 percent of the child's support and residing in the sponsor's household.
2. Yes, if, for determinations of dependency made on or after July 1, 1994, placed in the legal custody of the sponsor or former member as a result of a court of competent jurisdiction in the United States (or possession of the United States) for a period of at least 12 consecutive months, and if dependent on the sponsor for over 50 percent of the child's support, and residing in the sponsor's household.
3. Yes, if, for determinations of dependency made on or after October 5, 1994, placed in the home of the sponsor by a placement agency (recognized by the Secretary of Defense) or by another source authorized by State or local law to provide adoption placement, in anticipation of the legal adoption by the sponsor.
4. Yes, if the child:
a. Has not attained the age of 23, is enrolled in a full-time course of study at an institution of higher learning approved by the administering Secretary, and is dependent on the sponsor for over 50 percent of the child's support; or
b. Is incapable of self-support because of a mental or physical incapacity, and is dependent on the sponsor for over 50 percent of the child's support.

§ 161.22 Benefits for foreign affiliates.

(a) Sponsored NATO and PFP personnel in the United States. Active duty officer and enlisted personnel of NATO and PFP countries serving in the United States under the sponsorship or invitation of the DoD or a Military Service and their accompanying dependents living in the sponsor's U.S. household are eligible for benefits as shown in Table 47 to this subpart.

Table 47 to Subpart C of Part 161—Benefits for Sponsored NATO and PFP Personnel and Accompanying Dependents in the United States
| CHC | DC | C | MWR | E
Self | No | 1 | 2 | 2 | 2.
Lawful Spouse | 3 | 1 | 4 | 4 | 4.
Children, Unmarried, Under 21 Years:
Legitimate, adopted, stepchild, illegitimate child of member, or illegitimate child of spouse | 3, 4 | 1, 4 | 4 | 4 | 4.
Ward | No | No | 5 | 5 | 5.
Children, Unmarried, 21 Years and Over | 3, 6 | 1, 6 | 7 | 7 | 7.
Parent, Parent-in-Law, Stepparent, or Parent by Adoption | No | No | 4 | 4 | 4.
Notes:
1. Yes, for outpatient care no charge and for inpatient care at full reimbursable rate.
2. Yes, if:
a. Under orders issued by a U.S. Military Service; or
b. Assigned military attaché duties in the United States and designated on reciprocal agreements with the Department of State.
3. Yes, for outpatient care only.
4. Yes, if residing in the household of the authorized sponsor in the United States.
5. Yes, if, for determination of dependency made on or after July 1, 1994, placed in the legal custody of the sponsor as a result of a court of competent jurisdiction in the United States (or possession of the United States) for a period of at least 12 consecutive months, and if residing in the authorized sponsor's household.
6. Yes, if residing in the household of the authorized sponsor in the United States and the child:
a. Has not attained the age of 23, is enrolled in a full-time course of study at an institution of higher learning approved by the administering Secretary, and is dependent on the sponsor for over 50 percent of the child's support; or
b. Is incapable of self-support because of a mental or physical incapacity that existed before age 21, or occurred before the age of 23 while a full-time student, while a dependent of a sponsor, and is dependent on the sponsor for over 50 percent of the child's support.
7. Yes, if the child:
a. Has not attained the age of 23, is enrolled in a full-time course of study at an institution of higher learning approved by the administering Secretary, and is dependent on the sponsor for over 50 percent of the child's support; or
b. Is incapable of self-support because of a mental or physical, and is dependent on the sponsor for over 50 percent of the child's support.

(b) Sponsored non-NATO personnel in the United States. Active duty officer and enlisted personnel of non-NATO countries serving in the United States under DoD or Service sponsorship or invitation and their dependents, living in the non-NATO personnel's U.S. household, are eligible for benefits as shown in Table 48 to this subpart.

Table 48 to Subpart C of Part 161—Benefits for Sponsored Non-NATO Personnel and Accompanying Dependents in the United States
| CHC | DC | C | MWR | E
Self | No | 1 | 2 | 2 | 2.
Lawful Spouse | No | 1 | 3 | 3 | 3.
Children, Unmarried, Under 21 Years:
Legitimate, adopted, stepchild, illegitimate child of member, or illegitimate child of spouse | No | 1, 4 | 3 | 3 | 3.
Ward | No | No | 4 | 4 | 4.
Children, Unmarried, 21 Years and Over | No | 1, 5 | 6 | 6 | 6.
Parent, Parent-in-Law, Stepparent, or Parent by Adoption | No | No | 3 | 3 | 3.
Notes:
1. Yes, for outpatient care only on a reimbursable basis.
2. Yes, if under orders issued by a U.S. Military Service.
3. Yes, if residing in the household of the authorized sponsor in the United States.
4. Yes, if, for determination of dependency made on or after July 1, 1994, placed in the legal custody of the sponsor as a result of a court of competent jurisdiction in the United States (or possession of the United States) for a period of at least 12 consecutive months, and if residing in the authorized sponsor's household.
5. Yes, if residing in the household of the authorized sponsor in the United States and the child:
a. Has not attained the age of 23, is enrolled in a full-time course of study at an institution of higher learning approved by the administering Secretary, and is dependent on the sponsor for over 50 percent of the child's support; or
b. Is incapable of self-support because of a mental or physical incapacity that existed before age 21, or occurred before the age of 23 while a full-time student, while a dependent of a sponsor, and is dependent on the sponsor for over 50 percent of the child's support.
6. Yes, if residing in the household of the authorized sponsor in the United States and the child:
a. Has not attained the age of 23, is enrolled in a full-time course of study at an institution of higher learning approved by the administering Secretary, and is dependent on the sponsor for over 50 percent of the child's support; or
b. Is incapable of self-support because of a mental or physical, and is dependent on the sponsor for over 50 percent of the child's support.

(c) Non-sponsored NATO personnel in the United States. Active duty officer and enlisted personnel of NATO countries who, in connection with their official NATO duties, are stationed in the United States but are not under DoD or Service sponsorship and their accompanying dependents living in the non-sponsored NATO personnel's U.S. household are eligible for benefits as shown in Table 49 to this subpart.

Table 49 to Subpart C of Part 161—Benefits for Non-Sponsored NATO and PFP Personnel in the United States and Accompanying Dependents
| CHC | DC | C | MWR | E
Self | No | 1 | No | No | No.
Lawful Spouse | 2 | 1 | No | No | No.
Children, Unmarried, Under 21 Years:
Legitimate, adopted, stepchild, illegitimate child of member, or illegitimate child of spouse | 2, 3 | 1, 3 | No | No | No.
Ward | No | No | No | No | No.
Children, Unmarried, 21 Years and Over | 2, 3, 4 | 1, 3, 4 | No | No | No.
Parent, Parent-in-Law, Stepparent, or Parent by Adoption | No | No | No | No | No.
Notes:
1. Yes, for outpatient care no charge and for inpatient care at full reimbursable rate.
2. Yes, for outpatient care only.
3. Yes, if residing in the household of the authorized sponsor in the United States.
4. Yes, if residing in the household of the authorized sponsor in the United States and the child:
a. Has not attained the age of 23, is enrolled in a full-time course of study at an institution of higher learning approved by the administering Secretary, and is dependent on the sponsor for over 50 percent of the child's support; or
b. Is incapable of self-support because of a mental or physical incapacity that existed before age 21, or occurred before the age of 23 while a full-time student, while a dependent of a sponsor, and is dependent on the sponsor for over 50 percent of the child's support.

(d) NATO and non-NATO personnel outside the United States. Active duty officer and enlisted personnel of NATO and non-NATO countries serving outside the United States and outside their own country under DoD or Service sponsorship or invitation and their accompanying dependents living with the sponsor are eligible for benefits as shown in Table 50 to this subpart. These benefits may be extended to this category of personnel not under DoD or Service sponsorship or invitation when it is determined by the major overseas commander that the granting of such privileges is in the best interests of the United States and such personnel are connected with, or their activities are related to, the performance of functions of the Service establishment.

Table 50 to Subpart C of Part 161—Benefits for NATO, PFP, and Non-NATO Personnel Outside the United States and Accompanying Dependents
| CHC | DC | C | MWR | E
Self | No | 1 | Yes | Yes | Yes.
Lawful Spouse | No | 1 | Yes | Yes | Yes.
Children, Unmarried, Under 21 Years:
Legitimate, adopted, stepchild, illegitimate child of member, or illegitimate child of spouse | No | 1, 2 | 2 | 2 | 2.
Ward | No | No | 3 | 3 | 3.
Children, Unmarried, 21 Years and Over | No | 1, 4 | 5 | 5 | 5.
Parent, Parent-in-Law, Stepparent, or Parent by Adoption | No | No | 2 | 2 | 2.
Notes:
1. Yes, for outpatient care only on a reimbursable basis.
2. Yes, if residing in the household of the authorized sponsor and dependent on over 50 percent support.
3. Yes, if, for determination of dependency made on or after July 1, 1994, placed in the legal custody of the sponsor as a result of a court of competent jurisdiction in the United States (or possession of the United States) for a period of at least 12 consecutive months, and if dependent on the sponsor for over 50 percent of the child's support, and residing in the sponsor's household.
4. Yes, if residing in the household of the authorized sponsor and the child:
a. Has not attained the age of 23, is enrolled in a full-time course of study at an institution of higher learning approved by the administering Secretary, and is dependent on the sponsor for over 50 percent of the child's support; or
b. Is incapable of self-support because of a mental or physical incapacity that existed before age 21, or occurred before the age of 23 while a full-time student, while a dependent of a sponsor, and is dependent on the sponsor for over 50 percent of the child's support.
5. Yes, if residing in the household of the authorized sponsor in the United States and the child:
a. Has not attained the age of 23, is enrolled in a full-time course of study at an institution of higher learning approved by the administering Secretary, and is dependent on the sponsor for over 50 percent of the child's support; or
b. Is incapable of self-support because of a mental or physical, and is dependent on the sponsor for over 50 percent of the child's support.

(e) Korean Augmentation to the U.S. Army (KATUSA). Military service is mandatory for all Republic of Korea (ROK) male citizens. Those male citizens who speak English often become KATUSA serving with the U.S. Army forces in the ROK. This arrangement is provided for in the status of forces agreement between the United States and ROK. The KATUSAs are identified in DEERS for the purpose of issuing CACs for access to the U.S. installations in the ROK. No other benefits are provided as shown in Table 51 to this subpart.

Table 51 to Subpart C of Part 161—Benefits for KATUSA
| CHC | DC | C | MWR | E
Self | No | No | No | No | No.

(f) Foreign national civilians. Civilian employees of a foreign government who are assigned a support role with the DoD or Military Services or attending school at one of the DoD or uniformed services advanced schools may be identified in DEERS for the purpose of issuing a CAC. The foreign national civilian must be sponsored by the DoD or a Military Service regardless of whether the foreign national civilian is from a NATO, PFP, or non-NATO country. There are no benefits assigned and no dependent benefits are extended as shown in Table 52 to this subpart.

Table 52 to Subpart C of Part 161—Benefits for Foreign National Civilians
| CHC | DC | C | MWR | E
Self | No | No | No | No | No.

(g) Foreign national contractors. Contractor personnel, contracted to a foreign government, who are assigned a support role with the DoD or Military Services or as a representative of a foreign government at one of the DoD or uniformed services advanced schools may be identified in DEERS for the purpose of issuing a CAC for physical and logical access requirements. The foreign national contractor must be sponsored by the DoD or a Military Service regardless of whether the foreign national civilian is from a NATO, PFP, or a non-NATO country. There are no benefits assigned and no dependent benefits are extended as shown in Table 53 to this subpart.

Table 53 to Subpart C of Part 161—Benefits for Foreign National Contractors
| CHC | DC | C | MWR | E
Self | No | No | No | No | No.

(h) Personnel subject to a Reciprocal Health Care Agreement (RHCA) in the United States. For countries that have bilateral RHCAs with the DoD, RHCAs provide that a limited number of foreign force members and their dependents in the United States may be provided inpatient medical care at MTFs on a space-available basis without cost (except for a subsistence charge, if it applies). Provision of such care is contingent on comparable care being made available to a comparable number of U.S. military personnel and their dependents in the foreign country. Benefits are provided as shown in Table 54 to this subpart.

Table 54 to Subpart C of Part 161—Benefits for Foreign Force Members and Eligible Dependents Residing in the United States Who Are Covered by an RHCA
| CHC | DC | C | MWR | E
Self | No | 1 | No | No | No.
Lawful Spouse | No | 1 | No | No | No.
Children, Unmarried, Under 21 Years:
Legitimate, adopted, stepchild, illegitimate child of member, or illegitimate child of spouse | No | 1, 2 | No | No | No.
Ward | No | No | No | No | No.
Children, Unmarried, 21 Years and Over | No | 1, 2, 3 | No | No | No.
Parent, Parent-in-Law, Stepparent, or Parent by Adoption | No | No | No | No | No.
Notes:
1. As determined by the appropriate RHCA.
2. Yes, if residing in the household of the authorized sponsor in the United States.
3. Yes, if residing in the household of the authorized sponsor in the United States, the child:
a. Has not attained the age of 23, is enrolled in a full-time course of study at an institution of higher learning approved by the administering Secretary, and is dependent on the sponsor for over 50 percent of the child's support; or
b. Is incapable of self-support because of a mental or physical incapacity that existed before age 21, or occurred before the age of 23 while a full-time student, while a dependent of a sponsor, and is dependent on the sponsor for over 50 percent of the child's support.

9. Add subpart D to read as follows:

Subpart D—DoD Identification (ID) Cards: Eligibility Documentation Required for Defense Enrollment Eligibility Reporting System (DEERS) Enrollment, Record Management, and ID Card Issuance
Sec.
161.23 Procedures.

Subpart D—DoD Identification (ID) Cards: Eligibility Documentation Required for Defense Enrollment Eligibility Reporting System (DEERS) Enrollment, Record Management, and ID Card Issuance

§ 161.23 Procedures.

(a) Eligibility documentation—(1) Basic requirements. (i) ID card applicants must provide documentation as initial verification of eligibility for benefits or as proof of relationship to the sponsor. The sponsor is the prime beneficiary who derives eligibility based on individual status rather than dependence upon or relationship to another person, in accordance with § 161.7(a). When possible, DEERS records will be established and updated by authoritative data feeds.

(ii) An individual's DEERS record is established through the in-person presentation of identity documentation and, in some cases, eligibility documentation. Documentation verifying an ID card applicant's identity is always required in accordance with § 161.7(d)(1). Eligibility documentation may also be required to update a DEERS record to reflect a change in benefits or status.

(A) Identity and eligibility documentation is reviewed for authenticity by a RAPIDS verifying official (VO) and incorporated into the individual's DEERS record as necessary.

(B) The sponsor or DoD beneficiary must provide documentation to establish or terminate the relationship to a dependent within 30 days of the change.

(C) The VO ensures that the DD Form 1172-2 is signed by the sponsor.

(1) If the sponsor refuses to sign or is physically unable to sign the application, the VO verifies that the dependency between the sponsor and dependent exists and includes reasons why the sponsor is not able to or will not sign the application on the DD Form 1172-2. The VO then signs in the sponsor signature block and in the verifier's block.

(2) If the sponsor is deceased, the DoD beneficiary signs on the beneficiary's own behalf or on behalf of the surviving dependent.

(D) A VO may request additional documentation if there is any question of the authenticity of those presented.

(iii) Eligible individuals presenting eligibility documentation not listed in this subpart must have the responsible uniformed service Judge Advocate General or local Staff Judge Advocate (SJA) review and verify the documentation. A written Judge Advocate General or SJA opinion may need to be submitted at ID card issuance, verifying the documentation's use for DEERS enrollment.

(2) Documentation standards—(i) Certified documentation. All documentation must be an original or certified document.

(ii) Foreign documentation. Additional requirements are applied toward the verification of foreign eligibility documentation submitted to support enrollment of a dependent, including:

(A) A full English language translation, which the translator has certified as complete and accurate, and the translator's certification of competency to translate from the foreign language into English, in accordance with 8 CFR 103.2(b)(3). Translation must be provided by a translator other than the individual presenting the document.

(B) A written Judge Advocate General or local SJA opinion confirming use of the eligibility documentation, if the uniformed service member is stationed overseas.

(C) Documentation that attests to the genuineness of the signature and seal, or the position of the foreign official who executed, issued, or certified the foreign documentation being presented to substantiate the dependency relationship to the sponsor.

(1) An accompanying original apostille (i.e., certification) from a higher-level authority in the foreign country of issuance, for eligibility documents from countries that have adopted the Hague Convention Abolishing the Requirement of Legalisation for Foreign Public Documents, October 5, 1961 (copies may be obtained from the Internet at https://www.hcch.net/en/instruments/conventions/full-text/?cid=41). Sponsors should contact their SJA for information on how to obtain an apostille from a member nation; or

(2) An accompanying original certificate of authentication by a U.S. Consular Officer in the foreign country of issuance, for eligibility documents from all other foreign nations. Sponsors should contact their SJA for information on how to request issuance of certificate(s) of authentication from a U.S. Consular official.

(b) Documentation for dependents—(1) Overview. This paragraph (b) describes eligibility documentation required for eligible dependents of qualifying sponsors, including current, former, and retired uniformed service members, civilian employees, and other eligible individuals in accordance with subpart C of this part. Dependents who are eligible for benefits in accordance with subpart C of this part must provide eligibility documentation that establishes the dependent's relationship to the sponsor and verifies eligibility, as shown in Tables 1 through 12 to this subpart.

(i) The uniformed services restrict cross-servicing for verification of the DD Form 1172-2 and eligibility documentation to the responsible uniformed service for certain categories of dependents, in accordance with § 161.7(e)(1).

(ii) Service-specific requirements and processes are addressed in Air Force Instruction 36-3026, “Identification Cards for Members of the Uniformed Services, Their Eligible Family Members, and Other Eligible Personnel” (available at: http://static.e-publishing.af.mil/production/1/af_a1/publication/afi36-3026v1_ip/afi_36-3026_ip.pdf).

(2) Spouse. A sponsor's spouse must have eligibility verified by documentation shown in Table 1 to this subpart.

Table 1 to Subpart D of Part 161—Eligibility Documentation Required for a Spouse
Status | Eligibility documentation
Spouse | Marriage certificate.
Common Law Spouse | SJA opinion (Note 1) and Common law marriage certificate (Note 2) or Court order (Note 3).
Notes:
1. A written SJA opinion that a common law marriage is recognized in the relevant State or U.S. jurisdiction.
2. A common law marriage certificate certified by the State.
3. An order or other appropriate document from a court of competent jurisdiction in the United States (or U.S. territory or possession) that establishes a common law marriage.

(3) Child, unmarried, under the age of 21. A sponsor's dependent child, who is unmarried and under the age of 21, must have eligibility verified as shown in Tables 2 through 7 to this subpart. A child under the age of 21, who marries and subsequently divorces, may present a divorce decree and have eligibility reinstated, if the other requirements for a dependent child are met.

(i) Legitimate child. A sponsor's legitimate child must have eligibility verified by documentation shown in Table 2 to this subpart.

Table 2 to Subpart D of Part 161—Eligibility Documentation Required for a Legitimate Child
Status | Eligibility documentation
Legitimate Child | Birth certificate (Note 1).
Legitimate Child Conceived Posthumously | Birth certificate (Note 1) and Director, DoDHRA memorandum (Note 2).
Notes:
1. A certificate of live birth or an FS-240, “Consular Report of Birth Abroad,” may be used in lieu of a birth certificate.
2. A memorandum signed by the Director, DoDHRA, establishing the eligibility for a child conceived of artificial insemination after the sponsor's death. The deceased sponsor's responsible uniformed service project office must submit all eligibility determination requests to DoDHRA, including documentation that:
a. Verifies the sponsor's intent to start a family, usually provided by the lab or clinic that assisted the couple with the in vitro process.
b. Provides the date of the sponsor's death.
c. Provides the date of birth or expected date of birth of the child.

(ii) Pre-adoptive or adopted child. A sponsor's pre-adoptive or adopted child must have eligibility verified by documentation shown in Table 3 to this subpart.

Table 3 to Subpart D of Part 161—Eligibility Documentation Required for a Pre-Adoptive or Adopted Child
Status | Eligibility documentation
Pre-Adoptive Child | Birth certificate (Note 1) and Placement agreement (Note 2) or Court order (Note 2) or Document authorized by State or local law (Notes 2, 3).
Adopted Child | Birth certificate (Note 1) and Adoption decree (Note 4) or Court order (Note 4).
Notes:
1. A certificate of live birth or an FS-240 may be used in lieu of a birth certificate. When a placement agreement or an order or other appropriate document from a court of competent jurisdiction in the United States (or U.S. territory or possession) establishes the child's date of birth, it may also be used in lieu of a birth certificate.
2. The placement agreement, order or other appropriate document from a court of competent jurisdiction in the United States (or U.S. territory or possession), or other appropriate document from any other source authorized by State or local law to provide adoption placement must include the intent to adopt.
3. An appropriate document from any other source authorized by State or local law with written approval from the responsible uniformed service Judge Advocate General or local SJA.
4. An order or other appropriate document from a court of competent jurisdiction in the United States (or U.S. territory or possession) that establishes legal adoption of the child by the sponsor.

(iii) Stepchild. A sponsor's stepchild must have eligibility verified by documentation shown in Table 4 to this subpart.

Table 4 to Subpart D of Part 161—Eligibility Documentation Required for a Stepchild
Status | Eligibility documentation
Stepchild | Birth certificate (Note 1) and Sponsor's marriage certificate (Note 2).
Note:
1. A certificate of live birth or an FS-240 may be used in lieu of a birth certificate. When a placement agreement or an order or other appropriate document from a court of competent jurisdiction in the United States (or U.S. territory or possession) establishes the child's date of birth, it may also be used in lieu of a birth certificate.
2. A marriage certificate that establishes the relationship between the child's parent and the sponsor.

(iv) Illegitimate child of record. A male sponsor's illegitimate child of record must have eligibility verified by documentation shown in Table 5 to this subpart.

Table 5 to Subpart D of Part 161—Eligibility Documentation Required for a Male Sponsor's Illegitimate Child of Record
Status | Eligibility documentation
Illegitimate child of record whose paternity has been judicially determined | Birth certificate (Note 1) and Court document (Note 2) or Consent order of paternity (Note 3).
Illegitimate child of record whose paternity has not been judicially determined | Birth certificate (Note 1) and SJA opinion (Note 4) or Voluntary acknowledgment of paternity (Note 5).
Notes:
1. A certificate of live birth or an FS-240 may be used in lieu of a birth certificate. When a placement agreement or an order or other appropriate document from a court of competent jurisdiction in the United States (or U.S. territory or possession) establishes the child's date of birth, it may also be used in lieu of a birth certificate.
2. An order or other appropriate document from a court of competent jurisdiction in the United States (or U.S. territory or possession) that establishes paternity.
3. A consent order of paternity, recognized by a court of competent jurisdiction in the United States (or U.S. territory or possession). An affidavit of paternity, recognized by a court of competent jurisdiction in the United States (or U.S. territory or possession), may be used in lieu of a consent order of paternity.
4. A written SJA opinion, if the member is stationed in a foreign country.
5. A voluntary acknowledgement of paternity signed by both parents and filed with the State.

(v) Ward. A sponsor's ward must have eligibility verified by documentation shown in Table 6 to this subpart. The sponsor must certify on the DD Form 1172-2 that the sponsor is providing more than 50 percent of the dependent's support and that the ward resides in the sponsor's household in order to issue an ID card.

Table 6 to Subpart D of Part 161—Eligibility Documentation Required for a Ward
Status | Eligibility documentation
Ward | Birth certificate (Note 1) and Financial dependency determination (Note 2) and Placement agreement (Note 3) or Court document (Note 3).
Notes:
1. A certificate of live birth or an FS-240 may be used in lieu of a birth certificate. When a placement agreement or an order or other appropriate document from a court of competent jurisdiction in the United States (or U.S. territory or possession) establishes the child's date of birth, it may also be used in lieu of a birth certificate.
2. A financial dependency determination from the responsible service's Defense Finance and Accounting Services (DFAS), or the service equivalent pay office, acknowledging that the sponsor is providing more than 50 percent of the dependent's support, or was at the time of the sponsor's death.
3. A placement agreement or an order or other appropriate document from a court of competent jurisdiction in the United States (or U.S. territory or possession) that establishes legal custody of the child by the sponsor for no less than 12 consecutive months.

(vi) Foster child. A sponsor's foster child must have eligibility verified by documentation shown in Table 7 to this subpart.

Table 7 to Subpart D of Part 161—Eligibility Documentation Required for a Foster Child
Status | Eligibility documentation
Foster Child | Birth certificate (Note 1) and Placement agreement (Note 2) or Court document (Note 2).
Notes:
1. A certificate of live birth or an FS-240 may be used in lieu of a birth certificate. When a placement agreement or an order or other appropriate document from a court of competent jurisdiction in the United States (or U.S. territory or possession) establishes the child's date of birth, it may also be used in lieu of a birth certificate.
2. A placement agreement or an order or other appropriate document from a court of competent jurisdiction in the United States (or U.S. territory or possession) that establishes the child's relationship to the sponsor.

(4) Child, unmarried, over the age of 21. A sponsor's dependent child, who is unmarried and over the age of 21, must have eligibility verified as shown in Tables 8 and 9 to this subpart.

(i) Full-time student. A sponsor's child who is between the ages of 21 and 23 and enrolled as a full-time student at an institution of higher learning must have eligibility verified by documentation shown in Table 8 to this subpart.

Table 8 to Subpart D of Part 161—Eligibility Documentation Required for a Full-Time Student
Status | Eligibility documentation
Full-Time Student | Dependent documentation (Note 1) and Letter from school registrar (Note 2) and Sponsor's certification of 50 percent support (Note 3).
Notes:
1. Eligible dependents, as identified in subpart C of this part, must establish their relationship to the sponsor as specified in Tables 2 through 7 in this subpart, if the relationship has not previously been established.
2. A letter from the school registrar that establishes the child as a full-time student.
3. Sponsor's certification on the DD Form 1172-2 that he or she is providing more than 50 percent of the dependent's support.

(ii) Incapacitated child. A sponsor must follow the Service-specific process for initial determination of an incapacitated dependent child. The incapacitated dependent child must have eligibility verified by documentation shown in Table 9 to this subpart.

Table 9 to Subpart D of Part 161—Eligibility Documentation Required for an Incapacitated Child
Status | Eligibility documentation
Incapacitated Child | Dependent documentation (Note 1) and Medical sufficiency statement (Note 2) and Financial dependency determination (Note 3).
Notes:
1. Eligible dependents, as identified in subpart C of this part, must establish their relationship to the sponsor as specified in Tables 2 through 7 of this subpart, if the relationship has not previously been established.
2. A medical sufficiency statement issued by a physician in support of the military treatment facility or authorized TRICARE service provider, stating incapacitation, and dated within 90 days of application, as required by the sponsoring component. If applicable, the physician's statement must reflect that the incapacitation occurred after the 21st birthday but before the 23rd birthday, while the dependent was a full-time student.
3. A financial dependency determination from the responsible Service's DFAS, or the Service equivalent pay office, acknowledging that the sponsor is providing more than 50 percent of the dependent's support, or was at the time of the sponsor's death.

(5) Parent. A sponsor's dependent parent, parent-in-law, stepparent, or parent-by-adoption, must have eligibility verified by documentation shown in Table 10 to this subpart.

Table 10 to Subpart D of Part 161—Eligibility Documentation Required for a Parent
Status | Eligibility documentation
Parent | Financial dependency determination (Note 1) and Birth certificate (Notes 2) and Marriage certificate (Note 3) or Adoption decree (Note 4).
Notes:
1. A financial dependency determination from the responsible Service's DFAS, or the Service equivalent pay office, acknowledging that the sponsor is providing more than 50 percent of the dependent's support, or was at the time of the sponsor's death.
2. A birth certificate establishing parental relationship to the sponsor, or the sponsor's spouse.
3. A marriage certificate establishing a relationship to the sponsor's parent, or the sponsor's spouse's parent.
4. An adoption decree establishing legal adoption of the sponsor, or the sponsor's spouse, by the parent, or parent-in-law.

(c) Documentation for surviving dependents. This paragraph (c) describes eligibility documentation required for surviving dependents of deceased uniformed service members who are eligible for benefits in accordance with subpart C of this part. Surviving dependents must have eligibility verified by documentation shown in Table 11 to this subpart. For ID card issuance, the unremarried widow or widower must certify on the DD Form 1172-2 that the widow or widower has not remarried.

Table 11 to Subpart D of Part 161—Eligibility Documentation Required for a Surviving Dependent
Status | Eligibility documentation
Widow or Widower:
Unremarried | Marriage certificate to sponsor (Note 1) and Death certificate of sponsor.
Unmarried | Marriage certificate to sponsor (Note 1) and Death certificate of sponsor and Marriage certificate from subsequent marriage (Note 1) and Divorce decree from subsequent marriage (Note 2) or Death certificate from subsequent marriage.
Dependent | Dependent documentation (Note 3).
Notes:
1. A common law marriage certificate, a court order, or a written SJA opinion that a common law marriage is recognized by the relevant State or U.S. jurisdiction is also accepted.
2. A dissolution decree or annulment decree is also accepted.
3. Eligible dependents, as identified in subpart C of this part, are required to establish their relationship to the sponsor as specified in Tables 1 through 10 of this subpart, if the relationship has not previously been established.

(d) Documentation for abused dependents—(1) Overview. This paragraph (d) describes eligibility documentation required for abused dependents of uniformed service members who are eligible for benefits in accordance with subpart C of this part.

(i) For the purposes of this paragraph (d), dependent children are limited to the sponsor's legitimate children, adopted children, and stepchildren, in accordance with 10 U.S.C. 1408(h). Their eligibility ends at age 18 unless otherwise eligible as full-time students (aged 18-23) or based on an incapacitation that existed before age 18 or occurred between the ages of 18 and 23 while a full-time student.

(ii) Abused dependents are required to provide documentation that verifies eligibility as shown in Tables 12 and 13 to this subpart to the responsible uniformed service project office.

(2) Abused dependent of a retirement-eligible service member. An abused dependent of a retirement eligible service member must have eligibility verified by documentation shown in Table 12 to this subpart.

Table 12 to Subpart D of Part 161—Eligibility Documentation Required for an Abused Dependent of a Retirement-Eligible Service Member
Status | Eligibility documentation
Dependent | DD Form 2698 “Application for Transitional Compensation” (Note 1) and Letter from DFAS (Note 2) and Dependent documentation (Note 3).
Notes:
1. DD Form 2698, approved by the responsible uniformed service.
2. A letter from DFAS, approving request to receive a portion of retired pay, or other approval from the service equivalent pay office.
3. Eligible dependents, as identified in subpart C of this part, are required to establish their relationship to the sponsor as specified in Tables 1 through 4 of this subpart, if the relationship has not previously been established.

(3) Abused dependent of a non-retirement-eligible service member. An abused dependent of a non-retirement-eligible Service member must have eligibility verified by documentation shown in Table 13 to this subpart.

Table 13 to Subpart D of Part 161—Eligibility Documentation Required for an Abused Dependent of a Non-Retirement Eligible Service Member
Status | Eligibility documentation
Dependent | DD Form 2698 (Note 1) and Dependent documentation (Note 2).
Notes:
1. DD Form 2698, approved by the responsible uniformed service.
2. Eligible dependents, as identified in subpart C of this part, must establish their relationship to the sponsor as specified in Tables 1 through 4 of this subpart, if the relationship has not previously been established.

(e) Documentation for former spouses. This paragraph (e) describes eligibility documentation required for 20/20/20, 20/20/15, and 10/20/10 former spouses of current, former, and retired uniformed service members, who are eligible for benefits in accordance with subpart C of this part. For ID card issuance, the unremarried former spouse must certify on the DD Form 1172-2 that the former spouse has not remarried. 10/20/10 former spouses, also known as abused former spouses of retirement-eligible Service members who are eligible under 10 U.S.C. 4108(h), should refer to paragraphs (d)(1) and (2) of this section for more information. Eligible former spouses, as identified in subpart C of this part, must have eligibility verified by documentation shown in Table 14 to this subpart.

Table 14 to Subpart D of Part 161—Eligibility Documentation Required for a Former Spouse
Status | Eligibility documentation
Former Spouse:
Unremarried | Marriage certificate to sponsor (Note 1) and Divorce decree from sponsor (Note 2) and Statement of service (Note 3).
Unmarried | Marriage certificate to sponsor (Note 1) and Divorce decree from sponsor (Note 2) and Statement of service (Note 3) and Marriage certificate from subsequent marriage (Note 1) and Divorce decree from subsequent marriage (Note 2) or Death certificate from subsequent marriage.
Notes:
1. A common law marriage certificate, a court order, or a written SJA opinion that a common law marriage is recognized in the relevant State or U.S. jurisdiction, is also accepted.
2. A dissolution decree or annulment decree is also accepted.
3. Statement of service that establishes the uniformed service member's service. A complete set of DD Form 214, “Certificate of Release or Discharge from Active Duty,” or dates of inclusive service for servicing personnel may be used in lieu of the statement of service.

(f) Documentation for uniformed service members—(1) Overview. This paragraph (f) describes eligibility documentation required for current, former, and retired uniformed service members, Medal of Honor (MOH) recipients, 100 percent disabled American veterans (DAVs), and their eligible dependents, in accordance with subpart C of this part.

(i) MOH recipients must have their DEERS records updated manually, as indicated in this paragraph.

(ii) Current, former, and retired members identified in this paragraph (f) should have eligibility updated in DEERS by an authoritative feed; however, under certain circumstances described in paragraphs (f)(2) and (3) of this section, a Service member may have eligibility verified by documentation shown in Tables 15 through 21 to this subpart.

(iii) All other uniformed service members should have their DEERS records updated by authoritative data feeds.

(2) Active duty member. An active duty member should have eligibility updated in DEERS by an authoritative feed; however, under certain circumstances described in the notes of the table, an active duty member may have eligibility verified by documentation shown in Table 15 to this subpart.

Table 15 to Subpart D of Part 161—Eligibility Documentation Required for an Active Duty Member and Dependents
Status | Eligibility documentation
Active Duty Member | Military orders (Note 1).
Dependent | Dependent documentation (Note 2).
Notes:
1. Military orders may be used at the service project officer level when DEERS verification is not available.
2. Eligible dependents, as identified in subpart C of this part, must establish their relationship to the sponsor, as specified in Tables 1 through 10 of this subpart, if the relationship has not previously been established.

(3) National Guard and Reserve member. A National Guard or Reserve member who is activated to active duty should have eligibility updated in DEERS by an authoritative feed; however, under certain circumstances described in the notes of the table, a National Guard or Reserve member may have eligibility verified by documentation shown in Table 16 to this subpart.

Table 16 to Subpart D of Part 161—Eligibility Documentation Required for a National Guard or Reserve Member and Dependents
Status | Eligibility documentation
National Guard or Reserve Member | Military orders (Note 1).
Dependent | Dependent documentation (Note 2).
Notes:
1. Military orders may be used at the service project officer level when DEERS verification is not available.
2. Eligible dependents, as identified in subpart C of this part, must establish their relationship to the sponsor, as specified in Tables 1 through 10 of this subpart, if the relationship has not previously been established.

(4) Retired reserve member. A retired reserve member should have eligibility updated in DEERS by an authoritative feed; however, a retired reserve member may also have eligibility verified by documentation shown in Table 17 to this subpart.

Table 17 to Subpart D of Part 161—Eligibility Documentation Required for a Retired Reserve Member and Dependents
Status | Eligibility documentation
Retired Reserve Member | Notice of eligibility (Note 1) or Retired pay orders (Note 2) or DD Form 214 (Note 3).
Retired Reserve Member ordered to active duty | DD Form 214 (Note 3) or Military order (Note 4) or Commissioning oath (Note 4) or Enlistment contract (Note 4).
Dependent | Dependent documentation (Note 5).
Notes:
1. Notice of eligibility from the Service's designated Reserve Personnel Center establishing the uniformed service member's eligibility for retired pay at age 60.
2. Retired pay orders, establishing the uniformed service member's eligibility for retired pay at age 60.
3. A DD Form 214 that establishes the uniformed service member's service can be used when DEERS verification is not available. A statement of service or dates of inclusive service for servicing personnel may be used in lieu of the DD Form 214.
4. Documentation establishing the uniformed service member being ordered to active duty for greater than 30 days.
5. Eligible dependents, as identified in subpart C of this part, must establish their relationship to the sponsor as specified in Tables 1 through 10 of this subpart, if the relationship has not previously been established.

(5) Retired member. A retired member should have eligibility updated in DEERS by an authoritative feed; however, a retired member may also have eligibility verified by documentation shown in Table 18 to this subpart. Retired members include voluntary retired members, permanent disability retired list members, and temporary disability retired list members.

Table 18 to Subpart D of Part 161—Eligibility Documentation Required for a Retired Member and Dependents
Status | Eligibility documentation
Retired Member | Retirement orders or Correction of military record (Note 1) or DD Form 214 (Note 2).
Dependent | Dependent documentation (Note 3).
Notes:
1. A correction of military record can be used at the service project officer level when DEERS verification is not available.
2. A DD Form 214 that establishes the uniformed service member's service can be used when DEERS verification is not available. A statement of service or dates of inclusive service for servicing personnel may be used in lieu of the DD Form 214.
3. Eligible dependents, as identified in subpart C of this part, must establish their relationship to the sponsor, as specified in Tables 1 through 10 of this subpart, if the relationship has not previously been established.

(6) Transitional Health Care (THC) member. A THC member should have eligibility updated in DEERS by an authoritative feed; however, a THC member may also have eligibility verified by documentation shown in Table 19 to this subpart to correct an ineligible condition.

Table 19 to Subpart D of Part 161—Eligibility Documentation Required for a THC Member and Dependents
Status | Eligibility documentation
THC Member | DD Form 214 (Note 1).
Dependent | Dependent documentation (Note 2).
Notes:
1. DD Form 214, reflecting the appropriate separation program designator code for Transition Assistance (TA)-180 eligibility. Separation orders, reflecting the appropriate separation program designator code for TA-180 eligibility may be used in lieu of the DD Form 214.
2. Eligible dependents, as identified in subpart C of this part, must establish their relationship to the sponsor, as specified in Tables 1 through 10 of this subpart, if the relationship has not previously been established.

(7) MOH recipient. A MOH recipient should have eligibility verified by documentation shown in Table 20 to this subpart. DoDHRA will update all MOH DEERS records.

Table 20 to Subpart D of Part 161—Eligibility Documentation Required for a MOH Recipient and Dependents
Status | Eligibility documentation
MOH Recipient | Confirmation of MOH status (Note 1).
Dependent | Dependent documentation (Note 2).
Notes:
1. Confirmation of MOH status by DoDHRA.
2. Eligible dependents, as identified in subpart C of this part, must establish their relationship to the sponsor, as specified in Tables 1 through 10 of this subpart, if the relationship has not previously been established.

(8) 100 percent DAV. An honorably discharged veteran who has been rated as 100 percent disabled or incapable of pursuing substantially gainful employment by the Department of Veterans Affairs (VA) should have eligibility verified by documentation shown in Table 21 to this subpart.

Table 21 to Subpart D of Part 161—Eligibility Documentation Required for a 100 Percent DAV and Dependents
Status | Eligibility documentation
100 Percent DAV | VA rating determination letter (Note 1) and DD Form 214 (Note 2).
Dependent | Dependent documentation (Note 3).
Notes:
1. VA rating determination letter that establishes eligibility as 100 percent disabled or incapable of pursuing substantially gainful employment.
2. A DD Form 214 that characterizes the uniformed service member's discharge as honorable.
3. Eligible dependents, as identified in subpart C of this part, are required to establish their relationship to the sponsor, as specified in Tables 1 through 10 of this subpart, if the relationship has not previously been established.

(g) Documentation for civilian personnel—(1) Overview. This paragraph (g) describes eligibility documentation required for civilian personnel, and their dependents, when they are eligible for benefits in accordance with subpart C of this part. Civilian personnel, as the sponsors, and their dependents, qualify for different benefits based on the sponsor's status in accordance with subpart C of this part. The definition of “civilian personnel” (e.g., civilian employee, DoD contractor, Red Cross employee) is specific to each eligibility set described. Civilian employees include both appropriated fund and nonappropriated fund employees, in accordance with subpart B of this part.

(2) Civilian personnel—(i) Civilian personnel residing on a military installation in the United States. Civilian personnel residing on a military installation in the United States, and accompanying dependents, must have eligibility verified by documentation shown in Table 22 to this subpart.

Table 22 to Subpart D of Part 161—Eligibility Documentation Required for Civilian Personnel Residing on a Military Installation in the United States and Accompanying Dependents
Status | Eligibility documentation
Civilian: DoD civilian employee, DoD contractor, Intergovernmental Personnel Act personnel, non-DoD government agency civilian employee under DoD sponsorship | Travel authorization (Note 1).
Dependent | Travel authorization (Note 2) and Dependent documentation (Note 3).
Notes:
1. A travel authorization produced by the sponsoring DoD Component authorizing the sponsor to reside on a military installation.
2. A travel authorization produced by the sponsoring DoD Component authorizing eligible dependents to accompany the sponsor.
3. Eligible dependents, as identified in subpart C of this part, are required to establish their relationship to the sponsor, as specified in Tables 1 through 12 of this subpart, if the relationship has not previously been established.

(ii) Civilian personnel outside the United States. Civilian personnel stationed outside the United States, and accompanying dependents, must have eligibility verified by documentation shown in Table 23 to this subpart.

Table 23 to Subpart D of Part 161—Eligibility Documentation Required for Civilian Personnel Stationed Outside the United States and Accompanying Dependents
Status | Eligibility documentation
Civilian: DoD civilian employee, DoD contractor, Intergovernmental Personnel Act personnel, non-DoD government agency civilian employee under DoD sponsorship, DoD contractor authorized to accompany the Armed Forces (CAAF) | Travel authorization (Note 1) and SPOT LOA (Note 2, 3).
Dependent | Dependent documentation (Note 4) and Travel authorization (Note 5) or SPOT LOA (Note 5).
Notes:
1. A travel authorization produced by the sponsoring DoD Component, indicating an assignment outside the United States.
2. A SPOT LOA that designates the contractor as CAAF, if a CAAF in accordance with DoD Instruction 3020.41, “Operational Contract Support (OCS)” (available at: http://www.dtic.mil/whs/directives/corres/pdf/302041p.pdf).
3. A SPOT LOA, if applicable in accordance with Combatant Command guidance.
4. Eligible dependents, as identified in subpart C of this part, are required to establish their relationship to the sponsor as specified in Tables 1 through 10 of this subpart, if the relationship has not previously been established.
5. A travel authorization produced by the sponsoring DoD Component or SPOT LOA authorizing eligible dependents to accompany the sponsor.

(3) Red Cross personnel. Uniformed and non-uniformed full-time paid personnel of the Red Cross assigned to duty with the uniformed services and either residing on a military installation in the United States, or stationed outside the United States, and accompanying dependents, must have eligibility verified by documentation shown in Table 24 to this subpart.

Table 24 to Subpart D of Part 161—Eligibility Documentation Required for Full-Time Paid Personnel of the Red Cross and Accompanying Dependents
Status | Eligibility documentation
Red Cross Employee | Travel authorization (Note 1).
Dependent | Travel authorization (Note 2) and Dependent documentation (Note 3).
Notes:
1. A travel authorization produced by the sponsoring DoD Component authorizing the sponsor to reside on a military installation in the United States, or indicating an assignment outside the United States.
2. A travel authorization produced by the sponsoring DoD Component authorizing eligible dependents to accompany the sponsor.
3. Eligible dependents, as identified in subpart C of this part, are required to establish their relationship to the sponsor, as specified in Tables 1 through 10 of this subpart, if the relationship has not previously been established.

(4) United Service Organizations (USO) personnel. USO area executives, center directors, and assistant directors serving outside the United States and outside U.S. territories and possessions and accompanying dependents, must have eligibility verified by documentation shown in Table 25 to this subpart.

Table 25 to Subpart D of Part 161—Eligibility Documentation Required for USO Area Executives, Center Directors, and Assistant Directors and Accompanying Dependents
Status | Eligibility documentation
USO Employee | Travel authorization (Note 1).
Dependent | Travel authorization (Note 2) and Dependent documentation (Note 3).
Notes:
1. A travel authorization produced by the sponsoring DoD Component.
2. A travel authorization produced by the sponsoring DoD Component authorizing eligible dependents to accompany the sponsor.
3. Eligible dependents, as identified in subpart C of this part, are required to establish their relationship to the sponsor, as specified in Tables 1 through 10 of this subpart, if the relationship has not previously been established.

(5) United Seaman's Service (USS) personnel. USS personnel serving outside the United States and outside U.S. territories and possessions, and accompanying dependents, must have eligibility verified by documentation shown in Table 26 to this subpart.

Table 26 to Subpart D of Part 161—Eligibility Documentation Required for USS Personnel and Accompanying Dependents
Status | Eligibility documentation
USS Employee (Self) | Travel authorization (Note 1).
Dependent | Travel authorization (Note 2) and Dependent documentation (Note 3).
Notes:
1. A travel authorization produced by the sponsoring DoD Component.
2. A travel authorization produced by the sponsoring DoD Component authorizing eligible dependents to accompany the sponsor.
3. Eligible dependents, as identified in subpart C of this part, are required to establish their relationship to the sponsor, as specified in Tables 1 through 10 of this subpart, if the relationship has not previously been established.

(6) Military Sealift Command (MSC) personnel. MSC personnel on MSC-owned and operated vessels outside the United States and outside U.S. territories and possessions, and accompanying dependents, must have eligibility verified by documentation shown in Table 27 to this subpart.

Table 27 to Subpart D of Part 161—Eligibility Documentation Required for MSC Personnel Deployed on MSC-Owned and Operated Vessels and Accompanying Dependents
Status | Eligibility documentation
MSC Employee | Travel authorization (Note 1).
Dependent | Travel authorization (Note 2) and Dependent documentation (Note 3).
Notes:
1. A travel authorization produced by the sponsoring DoD Component.
2. A travel authorization produced by the sponsoring DoD Component authorizing eligible dependents to accompany the sponsor.
3. Eligible dependents, as identified in subpart C of this part, are required to establish their relationship to the sponsor, as specified in Tables 1 through 10 of this subpart, if the relationship has not previously been established.

(h) Documentation for foreign affiliates. This paragraph (h) describes eligibility documentation required for foreign affiliates, including foreign national military, civilian, and contractor personnel, and their dependents, when they are eligible for benefits in accordance with subpart C of this part. A foreign affiliate serving in the United States or outside the United States under the sponsorship or invitation of the DoD or a Military Service, and accompanying dependents, or a foreign affiliate serving in the United States in connection with their official duties but who are not under the sponsorship or invitation of the DoD or a Military Service, and accompanying dependents, must have eligibility verified by documentation shown in Table 28 to this subpart.

Table 28 to Subpart D of Part 161—Eligibility Documentation Required for Sponsored Foreign Affiliates in the United States and Accompanying Dependents
Status | Eligibility documentation
Foreign Affiliate | ITO (Note 1) or Foreign Visit Request (Note 1).
Dependent | ITO (Note 2) or Foreign Visit Request (Note 2).
Notes:
1. An ITO, Foreign Visit Request, or other document establishing the foreign affiliate's sponsorship to travel to the United States.
2. An ITO, Foreign Visit Request, or letter produced by the sponsoring DoD Component authorizing eligible dependents to accompany the sponsor.

(i) Documentation required to terminate eligibility in DEERS—(1) Overview. This paragraph (i) describes documentation required to terminate eligibility in DEERS. When terminating eligibility in DEERS, documentation is required in accordance with Tables 29 through 31 to this subpart.

(2) Spouse. A sponsor's spouse, former spouse, or surviving widow or widower, who does not qualify as a DoD beneficiary and no longer meets the eligibility requirements identified in subpart C of this part, must have eligibility terminated in DEERS by documentation shown in Table 29 to this subpart.

Table 29 to Subpart D of Part 161—Documentation Required To Terminate Eligibility of a Spouse in DEERS
Status | Eligibility documentation
Spouse | Divorce decree (Note 1) or Death certificate.
Former Spouse | Marriage certificate from subsequent marriage (Note 2).
Widow/Widower | Marriage certificate from subsequent marriage (Note 2).
Notes:
1. A dissolution decree or annulment decree is also accepted.
2. A common law marriage certificate, a court order, or a written SJA opinion that a common law marriage is recognized in the relevant State or U.S. jurisdiction, is also accepted.

(3) Child. A sponsor's child, who no longer meets the eligibility requirements identified in subpart C of this part, must have eligibility terminated in DEERS by documentation shown in Table 30 to this subpart.

Table 30 to Subpart D of Part 161—Documentation Required To Terminate Eligibility of a Child in DEERS
Status | Eligibility documentation
Child, Under Age 21:
Legitimate, Adopted, Pre-Adoptive, Illegitimate Child | Marriage certificate (Note 1) or Adoption decree (Note 2) or Court order (Note 3) or Death certificate (Note 4).
Stepchild | Marriage certificate (Note 1) or Adoption decree (Note 2) or Court order (Note 3) or Death certificate (Note 4) or Divorce decree (Notes 5, 6).
Ward, Foster Child | Marriage certificate (Note 1) or Adoption decree (Note 2) or Court order (Note 3) or Death certificate (Note 4) or Dependency certification (Note 7).
Child, Over Age 21:
Full-Time Student | Marriage certificate (Note 1) or Death certificate (Note 4) or Change in financial status (Note 7) or Letter from school registrar (Note 8).
Temporary or Permanent Incapacitated Child | Marriage certificate (Note 1) or Death certificate (Note 4) or Change in financial status (Note 7) or Medical sufficiency statement (Note 9).
Notes:
1. A marriage certificate, if the child marries.
2. An adoption decree, if the child is adopted and the relationship to the sponsor is severed. This does not apply to surviving children adopted by a non-military member after the death of the sponsor in accordance with 32 CFR 199.3(f)(3).
3. An order or appropriate document from a court of competent jurisdiction in the United States (or U.S. territory or possession), affirming either the voluntary relinquishment or involuntary termination of parental rights and placing the child into custody of another guardian, or emancipating the child. In cases of involuntary termination, the Service project office should consult with the local SJA and confirm that the sponsor was properly notified of the involuntary termination proceedings and was given the opportunity to defend the sponsor's rights.
4. A death certificate, if the child dies.
5. A final divorce decree, if the sponsor and the child's parent divorce in accordance with 32 CFR 199.3(f)(3).
6. A dissolution decree or annulment decree is also accepted.
7. Sponsor certification on the DD Form 1172-2 that the sponsor is not providing more than 50 percent or that the child does not resides in the household.
8. A letter from the school registrar that establishes the child is no longer a full-time student.
9. A medical sufficiency statement issued by a physician in support of the military treatment facility or authorized TRICARE service provider, establishing the end of an incapacitation.

(4) Parent. A sponsor's parent, including a parent-in-law, stepparent, or parent-by-adoption, who no longer meets the eligibility requirements, as identified in subpart C of this part, must have eligibility terminated in DEERS by documentation shown in Table 31 to this subpart.

Table 31 to Subpart D of Part 161—Documentation Required To Terminate Eligibility of a Parent in DEERS
Status | Eligibility documentation
Parent | Change in financial status (Note 1) or Divorce decree (Note 2) or Marriage certificate (Note 3) or Death certificate (Note 4) or.
Notes:
1. The sponsor, or the dependent parent, verifies that the sponsor is not providing more than 50 percent financial support for the parent.
2. The relationship between the sponsor and the parent-in-law is terminated as a result of a divorce. A dissolution decree or annulment decree is also accepted.
3. The parent marries.
4. The parent dies.

(j) Documentation required to set data display restrictions in DEERS. This paragraph (j) describes documentation required to request data display restrictions in DEERS. In certain circumstances, data display restrictions may be applied in DEERS to mask data elements from being viewed by affiliated family members by documentation shown in Table 32 to this subpart. Reasons and circumstances for restricting data may include, but are not limited to, personal preference and cases of abuse. Restricted data may include, but is not limited to, contact information such as an address, phone number, or email address.

Table 32 to Subpart D of Part 161—Documentation Required To Set Data Display Restrictions
Status | Documentation
Sponsor or Dependent | DEERS Support Office request (Note 1) or Project Office request (Note 2) or Protective order (Note 3) or Health Insurance Portability and Accountability Act request (Note 4).
Notes:
1. A request to the DEERS Support Office asking for contact information to be restricted.
2. A request to the Service DEERS/RAPIDS Project Office asking for the contact information to be restricted.
3. An order or other appropriate document from a court of competent jurisdiction in the United States (or U.S. territory or possession) that establishes a protective order.
4. A request to restrict health information.

(k) Documentation required to change a gender marker in DEERS. This paragraph (k) describes documentation required to request a change to a retiree's, a dependent's, or a contractor's gender marker in DEERS. Requests to change a gender marker require submission of documentation listed in Table 33 to this subpart that reflects the applicant's gender identity. All requests by retirees, dependents, and contractors to change gender markers must be submitted by the sponsor's responsible uniformed service project office or sponsoring agency to DoDHRA.

(1) For changes to a retiree's gender marker, after DoDHRA confirms the change in DEERS, the uniformed service project office must follow existing Service procedures to send an update to DFAS, or the Service equivalent pay office, to allow DFAS, or the Service equivalent pay office, to update its system with the retiree's gender identity.

(2) A military Service member should refer to DoD Instruction 1300.28, “In-Service Transition For Transgender Service Members” (available at: http://www.dtic.mil/whs/directives/corres/pdf/130028p.pdf) and the Secretary of Defense Memorandum of June 30, 2016, Directive Type Memorandum (DTM) 16-005, “Military Service of Transgender Service Members” (available at: http://www.dtic.mil/whs/directives/corres/pdf/DTM-16-005.pdf) for DoD policy concerning changing their gender in DEERS.

(3) Government civilian employees should consult their servicing human resources or civilian personnel office for guidance concerning changing their gender markers in DEERS.

(4) If a name change is required in conjunction with a change of gender marker, see paragraph (m) of this section.

(5) To change a gender marker in DEERS to correct an administrative error, see paragraph (n) of this section.

Table 33 to Subpart D of Part 161—Documentation Required To Change a Gender Marker in DEERS
Status | Documentation
Retiree, Dependent, or Contractor (Note 4) | Re-issued or amended birth certificate (Note 1) or U.S. Passport (Note 1) or Court order (Note 2) or Doctor's letter with justification (Note 3).
Notes:
1. Document must reflect the individual's gender identity.
2. An order or other appropriate document from a court of competent jurisdiction in the United States (or U.S. territory or possession) reflecting the individual's gender identity.
3. If unable to submit a re-issued or an amended birth certificate reflecting the individual's gender identity, a U.S. passport reflecting the individual's gender identity, or a certified true copy of a court order reflecting the individual's gender identity, a retiree, dependent or contractor may submit a letter from a doctor certifying that the sponsor or dependent has had the appropriate clinical treatment for gender transition. If a doctor's letter is being submitted in lieu of the other official documents identified in this table, the individual submitting the request shall attach to the doctor's letter a written statement that the other official documents cannot be submitted. Information that must be included in the doctor's letter follows:
a. Physician's full name.
b. Physician's medical license or certificate number.
c. Issuing state or other jurisdiction of medical license/certificate.
d. Physician's office address and telephone number.
e. Language stating that the physician is the sponsor's or dependent's attending physician and that the physician has a doctor/patient relationship with the sponsor or dependent.
f. Language stating the sponsor or dependent has had the appropriate clinical treatment for gender transition to the individual's gender identity. Specific treatment information is not required.
g. Language stating “I declare under penalty of perjury under the laws of the United States that the forgoing is true and correct.”
4. Includes other ID card eligible populations managed by the Trusted Associate Sponsorship System for which DEERS is the authoritative source.

(l) Documentation required to change a Social Security Number (SSN) in DEERS. This paragraph (l) describes documentation required to change an SSN in DEERS. An individual's SSN should be changed in DEERS with documentation shown in Table 34 to this subpart.

(1) To change an SSN in a DEERS record that was established by an authoritative feed (e.g., uniformed service member records, DoD civilian personnel records), the sponsor will need to consult the personnel office that established the authoritative feed.

(2) To change an SSN in a DEERS record that was manually established (e.g., dependent records), the sponsor will need to go to a RAPIDS site for assistance.

Table 34 to Subpart D of Part 161—Documentation Required To Change an SSN in DEERS
Status | Documentation
Sponsor | Social security cards (Note 1) and Social Security Administration letter (Note 2).
Dependent | Social security cards (Note 1) and Social Security Administration letter (Note 2).
Notes:
1. Social security cards issued by the Social Security Administration, establishing the old and new SSNs.
2. A letter from the Social Security Administration, explaining that a new SSN has been issued and stating that the individual will no longer use the old SSN.

(m) Documentation required to change a name in DEERS. This paragraph (m) describes documentation required to change a name in DEERS. Name changes based on a marriage, divorce, or death, are made at the time of enrollment or ID card issuance. An individual's name should be changed in DEERS with documentation shown in Table 35 to this subpart.

(1) To change a name in a DEERS record that was established by an authoritative feed (e.g., uniformed service member records, DoD civilian personnel records), the sponsor will need to first consult the personnel office that established the authoritative feed. If an immediate change is required, the sponsor may visit a RAPIDS site with the applicable documentation identified in Table 35 to this subpart.

(2) To change a name in a DEERS record that was manually established (e.g., dependent records), the sponsor will need to visit a RAPIDS site with the applicable documentation identified in Table 35 to this subpart.

Table 35 to Subpart D of Part 161—Documentation Required To Change a Name in DEERS
Status | Documentation
Sponsor | Court order or Marriage certificate (Note 1) or Divorce decree (Note 2) or Death decree (Note 3) or Social security cards (Note 4).
Spouse | Court order or Marriage certificate (Note 1) or Divorce decree (Note 2) or Death certificate (Note 3) or Social security cards (Note 4).
Child | Court order or Social security cards (Note 4).
Notes:
1. A marriage certificate to change an individual's last name to match the spouse's last name or to hyphenate the last name.
2. A divorce decree to establish the individual's last name as the individual's last name before being married. A dissolution decree or annulment decree is also accepted. Additional documentation confirming name before being married may be required.
3. A death certificate to establish the individual's last name as the individual's last name before being married. Additional documentation confirming name before being married may be required.
4. Social security cards issued by the Social Security Administration, establishing the individual's old full name and new full name.

(n) Documentation required to correct an administrative error in DEERS—(1) Overview. This paragraph (n) describes documentation required to correct administrative errors in DEERS.

(i) To correct an administrative error in a DEERS record that was established and updated by authoritative feed, the sponsor should consult the personnel office that owns the authoritative feed.

(ii) To correct an administrative error in a DEERS record that was established and updated manually, the sponsor, on behalf of a dependent, should seek the support of the uniformed service's DEERS Support Office Field Support personnel with documentation shown in Tables 36 through 38 of this subpart.

(2) Name or date of birth. An individual's name or date of birth, when incorrectly entered in DEERS, should be corrected with the documentation shown in Table 36 to this subpart.

Table 36 to Subpart D of Part 161—Documentation Required To Modify a Name or Date of Birth in DEERS To Correct an Administrative Error
Status | Documentation
Sponsor or Dependent | U.S. Citizenship and Immigration Services Form I-9, “Instructions for Employment Eligibility Verification,” Documentation (Note).
Note: Documentation from the U.S. Citizenship and Immigration Services Form I-9, Lists of Acceptable Documents), that establishes name or date of birth.

(3) Gender. An individual's gender marker, when incorrectly entered in DEERS, should be corrected with the documentation shown in Table 37 to this subpart.

Table 37 to Subpart D of Part 161—Documentation Required To Modify a Gender Marker in DEERS To Correct an Administrative Error
Status | Documentation
Sponsor or Dependent | Birth certificate and Form I-9 Documentation (Note).
Note: Documentation from the U.S. Citizenship and Immigration Services Form I-9 (Lists of Acceptable Documents) that establishes gender.

(4) SSN. An individual's SSN, when incorrectly entered in DEERS, should be corrected with the documentation shown in Table 38 to this subpart.

Table 38 to Subpart D of Part 161—Documentation Required To Modify an SSN in DEERS To Correct an Administrative Error
Status | Documentation
Sponsor or Dependent | Documentation establishing SSN (Note).
Note: Government-issued documentation establishing SSN, including but not limited to, social security card, Department of the Treasury Internal Revenue Service Form W-2, “Wage and Tax Statement,” and Form SSA-1099, “Social Security Benefit Statement.”

Dated: October 11, 2016.
Aaron Siegel,
Alternate OSD Federal Register Liaison Officer, Department of Defense.

[FR Doc. 2016-24871 Filed 10-26-16; 8:45 am]

BILLING CODE 5001-06-P